ENVIRONMENTAL PROTECTION AGENCY

40 CFR Part 52

[EPA-R10-OAR-2015-0448; FRL-9943-19-Region 10]

Approval and Promulgation of Air Quality Implementation Plans; Washington; Update to Materials Incorporated by Reference

AGENCY: Environmental Protection Agency (EPA).

ACTION: Final rule; administrative change.

SUMMARY: The Environmental Protection Agency (EPA) is updating the materials that are incorporated by reference (IBR) into the Washington State Implementation Plan (SIP). The regulations affected by this update have been previously submitted by the Washington State Department of Ecology (Ecology) and approved by the EPA. In this action, the EPA is also notifying the public of corrections to typographical errors, minor formatting changes to the IBR tables, and correcting errors regarding the location of certain items in the tables. This update affects the SIP materials that are available for public inspection at the National Archives and Records Administration (NARA) and the EPA Regional Office.

DATES: This action is effective March 31, 2016.

ADDRESSES: SIP materials which are incorporated by reference into 40 CFR part 52 are available for inspection at the following locations: Environmental Protection Agency, Region 10, Office of Air, Waste, and Toxics (AWT-150), 1200 Sixth Avenue, Seattle, WA 98101, or the National Archives and Records Administration (NARA). For information on the availability of this material at NARA, call (202) 741-6030, or go to: http://www.archives.gov/federal_register/code_of_federal_regulations/ibr_locations.html.

FOR FURTHER INFORMATION CONTACT: Jeff Hunt, EPA Region 10, (206) 553-0256, hunt.jeff@epa.gov.

SUPPLEMENTARY INFORMATION:

I. Background

The SIP is a living document which a state revises as necessary to address its unique air pollution problems. Therefore, the EPA from time to time, must take action on SIP revisions containing new and/or revised regulations as being part of the SIP. On May 22, 1997, the EPA revised the procedures for incorporating by reference Federally-approved SIPs, as a result of consultations between the EPA and the Office of the Federal Register (OFR) (62 FR 27968). The description of the revised SIP document, IBR procedures and “Identification of plan” format are discussed in further detail in the May 22, 1997 Federal Register document. On March 20, 2013, the EPA published a Federal Register beginning the new IBR procedure for Washington (78 FR 17108). On December 8, 2014, the EPA published an update to the IBR material for Washington (79 FR 72548).

Since the publication of the last IBR update, the EPA approved into the Washington SIP the changes listed below.

A. Added Regulations

Table 2—Additional Regulations Approved for Washington Department of Ecology (Ecology) Direct Jurisdiction

• Washington Administrative Code, Chapter 173-400—General Regulations for Air Pollution Sources, sections 173-400-131 (Issuance of Emission Reduction Credits), 173-400-136 (Use of Emission Reduction Credits (ERC)), 173-400-800 (Major Stationary Source and Major Modification in a Nonattainment Area), 173-400-810 (Major Stationary Source and Major Modification Definitions), 173-400-820 (Determining if a New Stationary Source or Modification to a Stationary Source is Subject to these Requirements), 173-400-830 (Permitting Requirements), 173-400-840 (Emission Offset Requirements), 173-400-850 (Actual Emissions Plantwide Applicability Limitation (PAL)), and 173-400-860 (Public Involvement Procedures). For more information see 79 FR 66291 (November 7, 2014).

• Washington Administrative Code, Chapter 173-400—General Regulations for Air Pollution Sources, sections 173-400-116 (Increment Protection), 173-400-117 (Special Protection Requirements for Federal Class I Areas), 173-400-700 (Review of Major Stationary Sources of Air Pollution), 173-400-710 (Definitions), 173-400-720 (Prevention of Significant Deterioration (PSD)), 173-400-730 (Prevention of Significant Deterioration Application Processing Procedures), 173-400-740 (PSD Permitting Public Involvement Requirements), and 173-400-750 (Revisions to PSD Permits). For more information see 80 FR 23721 (April 29, 2015).

Table 4—Additional Regulations Approved for the Benton Clean Air Agency (BCAA) Jurisdiction

• Benton Clean Air Agency, Regulation I, sections 1.01 (Name of Agency), 1.02 (Policy and Purpose), 1.03 (Applicability), 4.01A (Definitions—Fugitive Dust), 4.01 paragraph B (Definitions—Fugitive Emissions), 4.02 paragraph B (Particulate Matter Emissions—Fugitive Emissions), 4.02 paragraph C.1 (Particulate Matter Emissions—Fugitive Dust), and 4.02 paragraph C.3 (Particulate Matter Emissions—Fugitive Dust). For more information see 80 FR 71695 (November 17, 2015).

• Washington Administrative Code, Chapter 173-400—General Regulations for Air Pollution Sources, sections 173-400-036 (Relocation of Portable Sources), 173-400-111 (Processing Notice of Construction Applications for Sources, Stationary Sources and Portable Sources), 173-400-117 (Special Protection Requirements for Federal Class I Areas), 173-400-118 (Designation of Class I, II, and III Areas), 173-400-131 (Issuance of Emission Reduction Credits), 173-400-136 (Use of Emission Reduction Credits (ERC)), 173-400-175 (Public Information), 173-400-560 (General Order of Approval), 173-400-800 (Major Stationary Source and Major Modification in a Nonattainment Area), 173-400-810 (Major Stationary Source and Major Modification Definitions), 173-400-820 (Determining if a New Stationary Source or Modification to a Stationary Source is Subject to these Requirements), 173-400-830 (Permitting Requirements), 173-400-840 (Emission Offset Requirements), 173-400-850 (Actual Emissions Plantwide Applicability Limitation (PAL)), and 173-400-860 (Public Involvement Procedures). For more information see 80 FR 71695 (November 17, 2015).

B. Revised Regulations

Table 1—Regulations Approved Statewide

• Washington Administrative Code, Chapter 173-422—Motor Vehicle Emission Inspection, sections 173-422-020 (Definitions), 173-422-030 (Vehicle Emission Inspection Requirement), 173-422-031 (Vehicle Emission Inspection Schedules), 173-422-060 (Gasoline Vehicle Emission Standards), 173-422-065 (Diesel Vehicle Exhaust Emission Standards), 173-422-070 (Gasoline Vehicle Exhaust Emission Testing Procedures), 173-422-075 (Diesel Vehicle Inspection Procedure), 173-422-160 (Fleet and Diesel Owner Vehicle Testing Requirements), 173-422-190 (Emission Specialist Authorization), and 173-422-195 (Listing of Authorized Emission Specialists). For more information see 80 FR 48033 (August 11, 2015).

Table 2—Additional Regulations Approved for Washington Department of Ecology (Ecology) Direct Jurisdiction

• Washington Administrative Code, Chapter 173-400—General Regulations for Air Pollution Sources, sections 173-400-036 (Relocation of Portable Sources), 173-400-111 (Processing Notice of Construction Applications for Sources, Stationary Sources and Portable Sources), 173-400-112 (Processing Notice of Construction Applications for Sources, Stationary Sources and Portable Sources), 173-400-113 (New Sources in Attainment or Unclassifiable Areas—Review for Compliance with Regulations), 173-400-171 (Public Notice and Opportunity for Public Comment), and 173-400-560 (General Order of Approval). For more information see 80 FR 23721 (April 29, 2015).

• Washington Administrative Code, Chapter 173-400—General Regulations for Air Pollution Sources, section 173-400-111 (Processing Notice of Construction Applications for Sources, Stationary Sources and Portable Sources). For more information see 80 FR 27102 (May 12, 2015).

Table 4—Additional Regulations Approved for the Benton Clean Air Agency (BCAA) Jurisdiction

• Washington Administrative Code, Chapter 173-400—General Regulations for Air Pollution Sources, sections 173-400-030 (Definitions), 173-400-040 (General Standards for Maximum Emissions), 173-400-050 (Emission Standards for Combustion and Incineration Units), 173-400-060 (Emission Standards for General Process Units), 173-400-070 (Emission Standards for Certain Source Categories), 173-400-081 (Startup and Shutdown), 173-400-091 (Voluntary Limits on Emissions), 173-400-105 (Records, Monitoring and Reporting), 173-400-110 (New Source Review (NSR) for Sources and Portable Sources), 173-400-112 (Requirements for New Sources in Nonattainment Areas—Review for Compliance with Regulations), 173-400-113 (New Sources in Attainment or Unclassifiable Areas—Review for Compliance with Regulations), 173-400-151 (Retrofit Requirements for Visibility Protection), 173-400-171 (Public Notice and Opportunity for Public Comment), and 173-400-200 (Creditable Stack Height & Dispersion Techniques). For more information see 80 FR 71695 (November 17, 2015).

Table 9—Additional Regulations Approved for the Spokane Regional Clean Air Agency (SRCAA) Jurisdiction

• Spokane Regional Clean Air Agency, Regulation I, Article VIII—Solid Fuel Burning Device Standards, sections 8.01 (Purpose), 8.02 (Applicability), 8.03 (Definitions), 8.04 (Emission Performance Standards), 8.05 (Opacity Standards), 8.06 (Prohibited Fuel Types), 8.07 (Curtailment (Burn Ban)), 8.08 (Exemptions), 8.09 (Procedure to Geographically Limit Solid Fuel Burning Devices) and 8.10 (Restrictions on Installation and Sales of Solid Fuel Burning Devices). For more information see 80 FR 58216 (September 28, 2015).

C. Removed Regulations

Table 1—Regulations Approved Statewide

• Washington Administrative Code, Chapter 173-422—Motor Vehicle Emission Inspection, section 173-422-130 (Inspection Fees). For more information see 80 FR 48033 (August 11, 2015). For more information see 80 FR 71695 (November 17, 2015).

Table 4—Additional Regulations Approved for the Benton Clean Air Agency (BCAA) Jurisdiction

• Washington Administrative Code, Chapter 173-400—General Regulations for Air Pollution Sources, sections 173-400-010 (Policy and Purpose), 173-400-020 (Applicability), and 173-400-100 (Registration).

Table 9—Additional Regulations Approved for the Spokane Regional Clean Air Agency (SRCAA) Jurisdiction

• Spokane Regional Clean Air Agency, Regulation I, Article VIII—Solid Fuel Burning Device Standards, section 8.11 (Regulatory Actions and Penalties). For more information see 80 FR 58216 (September 28, 2015).

D. Revised Source-Specific Requirements

• BP Cherry Point Refinery, Administrative Order No. 7836, Revision 2. For more information see 81 FR 7710 (February 16, 2016).

II. EPA Action

In this action, the EPA is announcing the update to the IBR material as of February 19, 2016. The EPA is correcting minor typographical errors, including subsection 52.2470(c), table 2, entry 173-400-091, which incorrectly listed the state effective date as “9/20/93” rather than the correct date of “4/1/11”. The EPA is also rearranging tables 5 through 10 in subsection 52.2470(c) to list the local clean air agency regulations at the top of the tables consistent with the EPA's recent final approval of the Benton Clean Air Agency general air quality regulations (80 FR 71698, November 17, 2015). The EPA is also rearranging and republishing the contents of subsection 52.2470(e) to organize the actions by pollutant and type for clarity. Finally, the EPA is moving the location of regulations relating to Washington's enforcement authority, appeals, and conflicts of interest, specifically, WAC 173-400-220 (Requirements for Board Members), WAC 173-400-230 (Regulatory Actions), WAC 173-400-240 (Criminal Penalties), WAC 173-400-250 (Appeals), and WAC 173-400-260 (Conflict of Interest). These regulations were inadvertently placed in subsection 52.2470 (c), Tables 2, 5, 6, 7, 8, 9, and 10, the regulations incorporated by reference. The EPA is moving these regulations to subsection 52.2470(e), the provisions that are approved but not incorporated by reference. For more information see 80 FR 71698 (November 17, 2015).

The EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Statutory and Executive Order Reviews

A. General Requirements

Under the Clean Air Act (CAA), the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

The SIP is not approved to apply on any Indian reservation land in Washington except as specifically noted below and is also not approved to apply in any other area where the EPA or an Indian tribe has demonstrated that a tribe has jurisdiction. In those areas of Indian country, the rule does not have tribal implications as specified by Executive Order 13175 (65 FR 67249, November 9, 2000). Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area.

In this rule, the EPA is finalizing regulatory text that includes incorporation by reference. In accordance with requirements of 1 CFR 51.5, the EPA is finalizing the incorporation by reference of the Washington regulations described in the amendments to 40 CFR part 52 set forth below. EPA has made, and will continue to make, these documents generally available electronically through www.regulations.gov and/or in hard copy at the appropriate EPA office (see the ADDRESSES section of this preamble for more information).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. This rule is not a “major rule” as defined by 5 U.S.C. 804(2).

C. Petitions for Judicial Review

The EPA has also determined that the provisions of section 307(b)(1) of the CAA pertaining to petitions for judicial review are not applicable to this action. Prior EPA rulemaking actions for each individual component of the Washington SIP compilations had previously afforded interested parties the opportunity to file a petition for judicial review in the United States Court of Appeals for the appropriate circuit within 60 days of such rulemaking action. Thus, the EPA sees no need in this action to reopen the 60-day period for filing such petitions for judicial review for this “Identification of plan” update action for Washington.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 22, 2016.
Dennis J. McLerran,
Regional Administrator, Region 10.

40 CFR part 52 is amended as follows:

PART 52—APPROVAL AND PROMULGATION OF IMPLEMENTATION PLANS

1. The authority for citation for part 52 continues to read as follows:

Authority: 42 U.S.C. 7401 et seq.

Subpart WW—Washington

2. Section 52.2470 is amended by:

a. Revising paragraph (b);

b. Revising paragraph (c);

c. Revising paragraph (d);

d. Revising paragraph (e).

The revisions read as follows:

§ 52.2470 Identification of plan.

* * * * *

(b) Incorporation by reference. (1) Material listed as incorporated by reference in paragraphs (c) and (d) of this section with an EPA approved date of February 19, 2016 was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after February 19, 2016 will be incorporated by reference in the next update to the SIP compilation.

(2)(i) EPA Region 10 certifies that the rules and regulations provided by the EPA at the addresses in paragraph (b)(3) of this section are an exact duplicate of the officially promulgated State rules and regulations which have been approved as part of the State Implementation Plan as of February 19, 2016.

(ii) EPA Region 10 certifies that the following source-specific requirements provided by the EPA at the addresses in paragraph (b)(3) of this section are an exact duplicate of the officially promulgated State source-specific requirements which have been approved as part of the State Implementation Plan as of February 19, 2016.

(3) Copies of the materials incorporated by reference may be inspected at the EPA Region 10 Office of Air, Waste and Toxics (AWT-150), 1200 Sixth Ave, Seattle, WA 98101; or at the National Archives and Records Administration (NARA). For information on the availability of this material at NARA, call 202-741-6030, or go to: http://www.archives.gov/federal_register/code_of_federal_regulations/ibr_locations.html.

(c) EPA approved regulations.

Table 1—Regulations Approved Statewide
[Not applicable in Indian reservations (excluding non-trust land within the exterior boundaries of the Puyallup Indian Reservation) and any other area where the EPA or an Indian tribe has demonstrated that a tribe has jurisdiction]
State citation | Title/subject | State effective date | EPA approval date | Explanations
Washington Administrative Code, Chapter 173-405—Kraft Pulping Mills
173-405-012 | Statement of Purpose | 3/22/91 | 1/15/93, 58 FR 4578 |
173-405-021 | Definitions | 3/22/91 | 1/15/93, 58 FR 4578 |
173-405-040 | Emissions Standards | 3/22/91 | 1/15/93, 58 FR 4578 | Except sections (1)(b), (1)(c), (3)(b), (3)(c), (4), (7), (8) & (9).
173-405-045 | Creditable Stack Height & Dispersion Techniques | 3/22/91 | 1/15/93, 58 FR 4578 |
173-405-061 | More Restrictive Emission Standards | 3/22/91 | 1/15/93, 58 FR 4578 |
173-405-072 | Monitoring Requirements | 3/22/91 | 1/15/93, 58 FR 4578 | Except section (2).
173-405-077 | Report of Startup, Shutdown, Breakdown or Upset Conditions | 3/22/91 | 1/15/93, 58 FR 4578 |
173-405-078 | Emission Inventory | 3/22/91 | 1/15/93, 58 FR 4578 |
173-405-086 | New Source Review (NSR) | 3/22/91 | 1/15/93, 58 FR 4578 |
173-405-087 | Prevention of Significant Deterioration (PSD) | 3/22/91 | 1/15/93, 58 FR 4578 |
173-405-091 | Special Studies | 3/22/91 | 1/15/93, 58 FR 4578 |
Washington Administrative Code, Chapter 173-410—Sulfite Pulping Mills
173-410-012 | Statement of Purpose | 3/22/91 | 1/15/93, 58 FR 4578 |
173-410-021 | Definitions | 3/22/91 | 1/15/93, 58 FR 4578 |
173-410-040 | Emissions Standards | 3/22/91 | 1/15/93, 58 FR 4578 | Except the exception provision in (3) & section (5).
173-410-045 | Creditable Stack Height & Dispersion Techniques | 3/22/91 | 1/15/93, 58 FR 4578 |
173-410-062 | Monitoring Requirements | 3/22/91 | 1/15/93, 58 FR 4578 |
173-410-067 | Report of Startup, Shutdown, Breakdown or Upset Conditions | 3/22/91 | 1/15/93, 58 FR 4578 |
173-410-071 | Emission Inventory | 3/22/91 | 1/15/93, 58 FR 4578 |
173-410-086 | New Source Review (NSR) | 3/22/91 | 1/15/93, 58 FR 4578 |
173-410-087 | Prevention of Significant Deterioration (PSD) | 3/22/91 | 1/15/93, 58 FR 4578 |
173-410-100 | Special Studies | 3/22/91 | 1/15/93, 58 FR 4578 |
Washington Administrative Code, Chapter 173-415—Primary Aluminum Plants
173-415-010 | Statement of Purpose | 3/22/91 | 1/15/93, 58 FR 4578 |
173-415-020 | Definitions | 3/22/91 | 1/15/93, 58 FR 4578 | Except sections (1) & (2).
173-415-030 | Emissions Standards | 3/22/91 | 1/15/93, 58 FR 4578 | Except sections (1) & (3)(b).
173-415-045 | Creditable Stack Height & Dispersion Techniques | 3/22/91 | 1/15/93, 58 FR 4578 |
173-415-050 | New Source Review (NSR) | 3/22/91 | 1/15/93, 58 FR 4578 |
173-415-051 | Prevention of Significant Deterioration (PSD) | 3/22/91 | 1/15/93, 58 FR 4578 |
173-415-060 | Monitoring and Reporting | 3/22/91 | 1/15/93, 58 FR 4578 | Except sections (1)(a), (b), & (d).
173-415-070 | Report of Startup, Shutdown, Breakdown or Upset Conditions | 3/22/91 | 1/15/93, 58 FR 4578 |
173-415-080 | Emission Inventory | 3/22/91 | 1/15/93, 58 FR 4578 |
Washington Administrative Code, Chapter 173-422—Motor Vehicle Emission Inspection
173-422-010 | Purpose | 6/3/93 | 9/25/96, 61 FR 50235 |
173-422-020 | Definitions | 7/4/02 | 8/11/15, 80 FR 48033 |
173-422-030 | Vehicle Emission Inspection Requirement | 7/4/02 | 8/11/15, 80 FR 48033 |
173-422-031 | Vehicle Emission Inspection Schedules | 7/4/02 | 8/11/15, 80 FR 48033 |
173-422-035 | Registration Requirements | 3/31/95 | 9/25/96, 61 FR 50235 |
173-422-040 | Noncompliance Areas | 6/3/93 | 9/25/96, 61 FR 50235 |
173-422-050 | Emission Contributing Areas | 11/9/96 | 5/19/97, 62 FR 27204 |
173-422-060 | Gasoline Vehicle Emission Standards | 7/4/02 | 8/11/15, 80 FR 48033 |
173-422-065 | Diesel Vehicle Exhaust Emission Standards | 7/4/02 | 8/11/15, 80 FR 48033 |
173-422-070 | Gasoline Vehicle Exhaust Emission Testing Procedures | 7/4/02 | 8/11/15, 80 FR 48033 |
173-422-075 | Diesel Vehicle Inspection Procedure | 7/4/02 | 8/11/15, 80 FR 48033 |
173-422-090 | Exhaust Gas Analyzer Specifications | 3/31/95 | 9/25/96, 61 FR 50235 |
173-422-095 | Exhaust Opacity Testing Equipment | 3/11/94 | 9/25/96, 61 FR 50235 |
173-422-100 | Testing Equipment Maintenance and Calibration | 3/31/95 | 9/25/96, 61 FR 50235 |
173-422-120 | Quality Assurance | 3/31/95 | 9/25/96, 61 FR 50235 |
173-422-145 | Fraudulent Certificates of Compliance/Acceptance | 4/6/90 | 9/25/96, 61 FR 50235 |
173-422-160 | Fleet and Diesel Owner Vehicle Testing Requirements | 7/4/02 | 8/11/15, 80 FR 48033 | Except: The part of 173-422-160(3) that says “of twelve or less dollars”.
173-422-170 | Exemptions | 12/2/00 | 5/12/05, 70 FR 24491 |
173-422-175 | Fraudulent Exemptions | 1/2/84 | 9/25/96, 61 FR 50235 |
173-422-190 | Emission Specialist Authorization | 7/4/02 | 8/11/15, 80 FR 48033 |
173-422-195 | Listing of Authorized Emission Specialists | 7/4/02 | 8/11/15, 80 FR 48033 |
Washington Administrative Code, Chapter 173-425—Open Burning
173-425-010 | Purpose | 10/18/90 | 1/15/93, 58 FR 4578 |
173-425-020 | Applicability | 10/18/90 | 1/15/93, 58 FR 4578 |
173-425-030 | Definitions | 10/18/90 | 1/15/93, 58 FR 4578 |
173-425-036 | Curtailment During Episodes or Impaired Air Quality | 10/18/90 | 1/15/93, 58 FR 4578 |
173-425-045 | Prohibited Materials | 1/3/89 | 1/15/93, 58 FR 4578 |
173-425-055 | Exceptions | 10/18/90 | 1/15/93, 58 FR 4578 |
173-425-065 | Residential Open Burning | 10/18/90 | 1/15/93, 58 FR 4578 |
173-425-075 | Commercial Open Burning | 10/18/90 | 1/15/93, 58 FR 4578 |
173-425-085 | Agricultural Open Burning | 10/18/90 | 1/15/93, 58 FR 4578 |
173-425-095 | No Burn Area Designation | 10/18/90 | 1/15/93, 58 FR 4578 |
173-425-100 | Delegation of Agricultural Open Burning Program | 10/18/90 | 1/15/93, 58 FR 4578 |
173-425-115 | Land Clearing Projects | 10/18/90 | 1/15/93, 58 FR 4578 |
173-425-120 | Department of Natural Resources Smoke Management Plan | 10/18/90 | 1/15/93, 58 FR 4578 |
173-425-130 | Notice of Violation | 10/18/90 | 1/15/93, 58 FR 4578 |
173-425-140 | Remedies | 10/18/90 | 1/15/93, 58 FR 4578 |
Washington Administrative Code, Chapter 173-430—Burning of Field and Forage and Turf Grasses Grown for Seed Open Burning
173-430-010 | Purpose | 10/18/90 | 1/15/93, 58 FR 4578 |
173-430-020 | Definitions | 10/18/90 | 1/15/93, 58 FR 4578 |
173-430-030 | Permits, Conditions, and Restrictions | 10/18/90 | 1/15/93, 58 FR 4578 |
173-430-040 | Mobile Field Burners | 10/18/90 | 1/15/93, 58 FR 4578 |
173-430-050 | Other Approvals | 10/18/90 | 1/15/93, 58 FR 4578 |
173-430-060 | Study of Alternatives | 10/18/90 | 1/15/93, 58 FR 4578 |
173-430-070 | Fees | 10/18/90 | 1/15/93, 58 FR 4578 |
173-430-080 | Certification of Alternatives | 10/18/90 | 1/15/93, 58 FR 4578 |
Washington Administrative Code, Chapter 173-433—Solid Fuel Burning Device Standards
173-433-010 | Purpose | 2/23/14 | 5/9/14, 79 FR 26628 |
173-433-020 | Applicability | 12/16/87 | 1/15/93, 58 FR 4578 |
173-433-030 | Definitions | 2/23/14 | 5/9/14, 79 FR 26628 |
173-433-100 | Emission Performance Standards | 2/23/14 | 5/9/14, 79 FR 26628 |
173-433-110 | Opacity Standards | 2/23/14 | 5/9/14, 79 FR 26628 |
173-433-120 | Prohibited Fuel Types | 2/23/14 | 5/9/14, 79 FR 26628 |
173-433-130 | General Emission Standards | 10/18/90 | 1/15/93, 58 FR 4578 |
173-433-140 | Criteria for Impaired Air Quality Burn Bans | 2/23/14 | 5/9/14, 79 FR 26628 |
173-433-150 | Restrictions on Operation of Solid Fuel Burning Devices | 2/23/14 | 5/9/14, 79 FR 26628 |
173-433-155 | Criteria for Prohibiting Solid Fuel Burning Devices That Are Not Certified | 2/23/14 | 5/9/14, 79 FR 26628 |
Washington Administrative Code, Chapter 173-434—Solid Waste Incinerator Facilities
173-434-010 | Purpose | 10/18/90 | 1/15/93, 58 FR 4578 |
173-434-020 | Applicability and Compliance | 1/22/04 | 8/4/05, 70 FR 44855 |
173-434-030 | Definitions | 1/22/04 | 8/4/05, 70 FR 44855 |
173-434-090 | Operation and Maintenance Plan | 10/18/90 | 1/15/93, 58 FR 4578 |
173-434-110 | Standards of Performance | 1/22/04 | 8/4/05, 70 FR 44855 | Except section (1)(a).
173-434-130 | Emission Standards | 1/22/04 | 8/4/05, 70 FR 44855 | Except section (2).
173-434-160 | Design and Operation | 1/22/04 | 8/4/05, 70 FR 44855 |
173-434-170 | Monitoring and Reporting | 1/22/04 | 8/4/05, 70 FR 44855 |
173-434-190 | Changes in Operation | 1/22/04 | 8/4/05, 70 FR 44855 |
173-434-200 | Emission Inventory | 1/22/04 | 8/4/05, 70 FR 44855 |
173-434-210 | Special Studies | 10/18/90 | 1/15/93, 58 FR 4578 |
Washington Administrative Code, Chapter 173-435—Emergency Episode Plan
173-435-010 | Purpose | 1/3/89 | 1/15/93, 58 FR 4578 |
173-435-015 | Significant Harm Levels | 1/3/89 | 1/15/93, 58 FR 4578 |
173-435-020 | Definitions | 1/3/89 | 1/15/93, 58 FR 4578 |
173-435-030 | Episode Stage Criteria | 1/3/89 | 1/15/93, 58 FR 4578 |
173-435-040 | Source Emission Reduction Plans | 1/3/89 | 1/15/93, 58 FR 4578 |
173-435-050 | Action Procedures | 1/3/89 | 1/15/93, 58 FR 4578 |
173-435-060 | Enforcement | 1/3/89 | 1/15/93, 58 FR 4578 |
173-435-070 | Sampling Sites, Equipment and Methods | 1/3/89 | 1/15/93, 58 FR 4578 | Except section (1).
Washington Administrative Code, Chapter 173-476—Ambient Air Quality Standards
173-476-010 | Purpose | 12/22/13 | 3/4/14, 79 FR 12077 |
173-476-020 | Applicability | 12/22/13 | 3/4/14, 79 FR 12077 |
173-476-030 | Definitions | 12/22/13 | 3/4/14, 79 FR 12077 |
173-476-100 | Ambient Air Quality Standard for PM-10 | 12/22/13 | 3/4/14, 79 FR 12077 |
173-476-110 | Ambient Air Quality Standards for PM-2.5 | 12/22/13 | 3/4/14, 79 FR 12077 |
173-476-120 | Ambient Air Quality Standard for Lead (Pb) | 12/22/13 | 3/4/14, 79 FR 12077 |
173-476-130 | Ambient Air Quality Standards for Sulfur Oxides (Sulfur Dioxide) | 12/22/13 | 3/4/14, 79 FR 12077 |
173-476-140 | Ambient Air Quality Standards for Nitrogen Oxides (Nitrogen Dioxide) | 12/22/13 | 3/4/14, 79 FR 12077 |
173-476-150 | Ambient Air Quality Standard for Ozone | 12/22/13 | 3/4/14, 79 FR 12077 |
173-476-160 | Ambient Air Quality Standards for Carbon Monoxide | 12/22/13 | 3/4/14, 79 FR 12077 |
173-476-170 | Monitor Siting Criteria | 12/22/13 | 3/4/14, 79 FR 12077 |
173-476-180 | Reference Conditions | 12/22/13 | 3/4/14, 79 FR 12077 |
173-476-900 | Table of Standards | 12/22/13 | 3/4/14, 79 FR 12077 |
Washington Administrative Code, Chapter 173-490—Emission Standards and Controls for Sources Emitting Volatile Organic Compounds
173-490-010 | Policy and Purpose | 3/22/91 | 7/12/93, 58 FR 37426 |
173-490-020 | Definitions | 3/22/91 | 7/12/93, 58 FR 37426 |
173-490-025 | General Applicability | 3/22/91 | 7/12/93, 58 FR 37426 |
173-490-030 | Registration and Reporting | 3/22/91 | 7/12/93, 58 FR 37426 |
173-490-040 | Requirements | 3/22/91 | 7/12/93, 58 FR 37426 |
173-490-080 | Exceptions and Alternative Methods | 3/22/91 | 7/12/93, 58 FR 37426 |
173-490-090 | New Source Review (NSR) | 3/22/91 | 7/12/93, 58 FR 37426 |
173-490-200 | Petroleum Refinery Equipment Leaks | 3/22/91 | 7/12/93, 58 FR 37426 |
173-490-201 | Petroleum Liquid Storage in External Floating Roof Tanks | 3/22/91 | 7/12/93, 58 FR 37426 |
173-490-202 | Leaks from Gasoline Transport Tanks and Vapor Collection System | 3/22/91 | 7/12/93, 58 FR 37426 |
173-490-203 | Perchloroethylene Dry Cleaning Systems | 3/22/91 | 7/12/93, 58 FR 37426 |
173-490-204 | Graphic Arts System | 3/22/91 | 7/12/93, 58 FR 37426 |
173-490-205 | Surface Coating of Miscellaneous Metal Parts and Products | 3/22/91 | 7/12/93, 58 FR 37426 |
173-490-207 | Surface Coating of Flatwood Paneling | 3/22/91 | 7/12/93, 58 FR 37426 |
173-490-208 | Aerospace Assembly and Component Coating Operations | 3/22/91 | 7/12/93, 58 FR 37426 |
Washington Administrative Code, Chapter 173-492—Motor Fuel Specifications for Oxygenated Gasoline
173-492-010 | Policy and Purpose | 10/19/96 | 4/30/97, 62 FR 23363 |
173-492-020 | Applicability | 12/1/92 | 4/30/97, 62 FR 23363 |
173-492-030 | Definitions | 12/1/92 | 4/30/97, 62 FR 23363 |
173-492-040 | Compliance Requirements | 12/1/92 | 4/30/97, 62 FR 23363 |
173-492-050 | Registration Requirements | 10/19/96 | 4/30/97, 62 FR 23363 |
173-492-060 | Labeling Requirements | 12/1/92 | 4/30/97, 62 FR 23363 |
173-492-070 | Control Areas and Control Periods | 10/19/96 | 4/30/97, 62 FR 23363 |
173-492-080 | Enforcement and Compliance | 12/1/92 | 4/30/97, 62 FR 23363 |
173-492-090 | Unplanned Conditions | 12/1/92 | 4/30/97, 62 FR 23363 |
173-492-100 | Severability | 12/1/92 | 4/30/97, 62 FR 23363 |

Table 2—Additional Regulations Approved for Washington Department of Ecology (Ecology) Direct Jurisdiction
[Applicable in Adams, Asotin, Chelan, Columbia, Douglas, Ferry, Franklin, Garfield, Grant, Kittitas, Klickitat, Lincoln, Okanogan, Pend Oreille, San Juan, Stevens, Walla Walla, and Whitman counties, excluding facilities subject to Energy Facilities Site Evaluation Council (EFSEC) jurisdiction, Indian reservations (excluding non-trust land within the exterior boundaries of the Puyallup Indian Reservation), and any other area where the EPA or an Indian tribe has demonstrated that a tribe has jurisdiction. These regulations also apply statewide for facilities subject to the applicability sections of WAC 173-400-700, 173-405-012, 173-410-012, and 173-415-012]
State citation | Title/subject | State effective date | EPA approval date | Explanations
Washington Administrative Code, Chapter 173-400—General Regulations for Air Pollution Sources
173-400-010 | Policy and Purpose | 3/22/91 | 6/2/95, 60 FR 28726 |
173-400-020 | Applicability | 12/29/12 | 10/3/14, 79 FR 59653 |
173-400-030 | Definitions | 12/29/12 | 10/3/14, 79 FR 59653 | Except: 173-400-030(91).
173-400-036 | Relocation of Portable Sources | 12/29/12 | 4/29/15, 80 FR 23721 |
173-400-040 | General Standards for Maximum Emissions | 4/1/11 | 10/3/14, 79 FR 59653 | Except: 173-400-040(2)(c); 173-400-040(2)(d); 173-400-040(3); 173-400-040(5); 173-400-040(7), second paragraph.
173-400-050 | Emission Standards for Combustion and Incineration Units | 12/29/12 | 10/3/14, 79 FR 59653 | Except: 173-400-050(2); 173-400-050(4); 173-400-050(5).
173-400-060 | Emission Standards for General Process Units | 2/10/05 | 10/3/14, 79 FR 59653 |
173-400-070 | Emission Standards for Certain Source Categories | 12/29/12 | 10/3/14, 79 FR 59653 | Except: 173-400-070(7); 173-400-070(8).
173-400-081 | Startup and Shutdown | 4/1/11 | 10/3/14, 79 FR 59653 |
173-400-091 | Voluntary Limits on Emissions | 4/1/11 | 10/3/14, 79 FR 59653 | 9/20/93 version continues to be approved under the authority of CAA Section 112(l) with respect to Section 112 hazardous air pollutants. See 60 FR 28726 (June 2, 1995).
173-400-105 | Records, Monitoring, and Reporting | 12/29/12 | 10/3/14, 79 FR 59653 |
173-400-107 | Excess Emissions | 9/20/93 | 6/2/95, 60 FR 28726 |
173-400-110 | New Source Review (NSR) for Sources and Portable Sources | 12/29/12 | 4/29/15, 80 FR 23721 | Except: 173-400-110(1)(c)(ii)(C); 173-400-110(1)(e); 173-400-110(2)(d); The part of WAC 173-400-110(4)(b)(vi) that says, • “not for use with materials containing toxic air pollutants, as listed in chapter 173-460 WAC,”; The part of 400-110 (4)(e)(iii) that says, • “where toxic air pollutants as defined in chapter 173-460 WAC are not emitted”; The part of 400-110(4)(e)(f)(i) that says, • “that are not toxic air pollutants listed in chapter 173-460 WAC”;
|  |  |  | The part of 400-110(4)(h)(xviii) that says, • “, to the extent that toxic air pollutant gases as defined in chapter 173-460 WAC are not emitted”; The part of 400-110 (4)(h)(xxxiii) that says, • “where no toxic air pollutants as listed under chapter 173-460 WAC are emitted”; The part of 400-110(4)(h)(xxxiv) that says, • “, or ≤1% (by weight) toxic air pollutants as listed in chapter 173-460 WAC”;
|  |  |  | The part of 400-110(4)(h)(xxxv) that says, • “or ≤1% (by weight) toxic air pollutants”; The part of 400-110(4)(h)(xxxvi) that says, • “or ≤1% (by weight) toxic air pollutants as listed in chapter 173-460 WAC”; 400-110(4)(h)(xl) , second sentence; The last row of the table in 173-400-110(5)(b) regarding exemption levels for Toxic Air Pollutants.
173-400-111 | Processing Notice of Construction Applications for Sources, Stationary Sources and Portable Sources | 12/29/12 | 5/12/15, 80 FR 27102 | Except: 173-400-111(3)(h); The part of 173-400-111(8)(a)(v) that says, • “and 173-460-040,”; 173-400-111(9).
173-400-112 | Requirements for New Sources in Nonattainment Areas—Review for Compliance with Regulations | 12/29/12 | 4/29/15, 80 FR 23721 | Except: 173-400-112(8).
173-400-113 | New Sources in Attainment or Unclassifiable Areas—Review for Compliance with Regulations | 12/29/12 | 4/29/15, 80 FR 23721 | Except: 173-400-113(3), second sentence.
173-400-116 | Increment Protection | 9/10/11 | 4/29/15, 80 FR 23721 |
173-400-117 | Special Protection Requirements for Federal Class I Areas | 12/29/12 | 4/29/15, 80 FR 23721 |
173-400-118 | Designation of Class I, II, and III Areas | 12/29/12 | 10/3/14, 79 FR 59653 |
173-400-131 | Issuance of Emission Reduction Credits | 4/1/11 | 11/7/14, 79 FR 66291 |
173-400-136 | Use of Emission Reduction Credits (ERC) | 4/1/11 | 11/7/14, 79 FR 66291 |
173-400-151 | Retrofit Requirements for Visibility Protection | 2/10/05 | 10/3/14, 79 FR 59653 |
173-400-161 | Compliance Schedules | 3/22/91 | 6/2/95, 60 FR 28726 |
173-400-171 | Public Notice and Opportunity for Public Comment | 12/29/12 | 4/29/15, 80 FR 23721 | Except: The part of 173-400-171(3)(b) that says, • “or any increase in emissions of a toxic air pollutant above the acceptable source impact level for that toxic air pollutant as regulated under chapter 173-460 WAC”; 173-400-171(12).
173-400-175 | Public Information | 2/10/05 | 10/3/14, 79 FR 59653 |
173-400-190 | Requirements for Nonattainment Areas | 3/22/91 | 6/2/95, 60 FR 28726 |
173-400-200 | Creditable Stack Height and Dispersion Techniques | 2/10/05 | 10/3/14, 79 FR 59653 |
173-400-205 | Adjustment for Atmospheric Conditions | 3/22/91 | 6/2/95, 60 FR 28726 |
173-400-210 | Emission Requirements of Prior Jurisdictions | 3/22/91 | 6/2/95, 60 FR 28726 |
173-400-560 | General Order of Approval | 12/29/12 | 4/29/15, 80 FR 23721 | Except: The part of 173-400-560(1)(f) that says, “173-460 WAC”.
173-400-700 | Review of Major Stationary Sources of Air Pollution | 4/1/11 | 4/29/15, 80 FR 23721 |
173-400-710 | Definitions | 12/29/12 | 4/29/15, 80 FR 23721 |
173-400-720 | Prevention of Significant Deterioration (PSD) | 12/29/12 | 4/29/15, 80 FR 23721 | Except: 173-400-720(4)(a)(i through iv); 173-400-720(4)(b)(iii)(C); and 173-400-720(4)(a)(vi) with respect to the incorporation by reference of the text in 40 CFR 52.21(b)(49)(v), 52.21(i)(5)(i), and 52.21(k)(2).
173-400-730 | Prevention of Significant Deterioration Application Processing Procedures | 12/29/12 | 4/29/15, 80 FR 23721 |
173-400-740 | PSD Permitting Public Involvement Requirements | 12/29/12 | 4/29/15, 80 FR 23721 |
173-400-750 | Revisions to PSD Permits | 12/29/12 | 4/29/15, 80 FR 23721 | Except: 173-400-750(2) second sentence.
173-400-800 | Major Stationary Source and Major Modification in a Nonattainment Area | 4/1/11 | 11/7/14, 79 FR 66291 |
173-400-810 | Major Stationary Source and Major Modification Definitions | 12/29/12 | 11/7/14, 79 FR 66291 |
173-400-820 | Determining if a New Stationary Source or Modification to a Stationary Source is Subject to these Requirements | 12/29/12 | 11/7/14, 79 FR 66291 |
173-400-830 | Permitting Requirements | 12/29/12 | 11/7/14, 79 FR 66291 |
173-400-840 | Emission Offset Requirements | 12/29/12 | 11/7/14, 79 FR 66291 |
173-400-850 | Actual Emissions Plantwide Applicability Limitation (PAL) | 12/29/12 | 11/7/14, 79 FR 66291 |
173-400-860 | Public Involvement Procedures | 4/1/11 | 11/7/14, 79 FR 66291 |

Table 3—Additional Regulations Approved for the Energy Facilities Site Evaluation Council (EFSEC) Jurisdiction
[See the SIP-approved provisions of WAC 463-39-020 for jurisdictional applicability]
State citation | Title/subject | State effective date | EPA approval date | Explanations
Washington Administrative Code, Chapter 463-39—General Regulations for Air Pollution Sources
463-39-005 | Adoption by Reference | 9/21/95 | 5/23/96, 61 FR 25791 | Except sections (2), (3) & (4).
463-39-010 | Purpose | 5/3/92 | 5/23/96, 61 FR 25791
463-39-020 | Applicability | 9/21/95 | 5/23/96, 61 FR 25791
463-39-030 | Additional Definitions | 9/21/95 | 5/23/96, 61 FR 25791
463-39-095 | Permit Issuance | 9/21/95 | 5/23/96, 61 FR 25791
463-39-100 | Registration | 12/11/93 | 5/23/96, 61 FR 25791
463-39-120 | Monitoring and Special Report | 9/21/95 | 5/23/96, 61 FR 25791
463-39-135 | Criminal Penalties | 8/6/79 | 5/23/96, 61 FR 25791
463-39-170 | Conflict of Interest | 8/6/79 | 5/23/96, 61 FR 25791
463-39-230 | Regulatory Actions | 8/26/94 | 5/23/96, 61 FR 25791

Table 4—Additional Regulations Approved for the Benton Clean Air Agency (BCAA) Jurisdiction
[Applicable in Benton County, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012]
State/local citation | Title/subject | State/local effective date | EPA approval date | Explanations
Benton Clean Air Agency (BCAA) Regulations
Regulation 1
1.01 | Name of Agency | 12/11/14 | 11/17/15, 80 FR 71695
1.02 | Policy and Purpose | 12/11/14 | 11/17/15, 80 FR 71695 | Replaces WAC 173-400-010.
1.03 | Applicability | 12/11/14 | 11/17/15, 80 FR 71695 | Replaces WAC 173-400-020.
4.01(A) | Definitions—Fugitive Dust | 12/11/14 | 11/17/15, 80 FR 71695 | Replaces WAC 173-400-030(38).
4.01(B) | Definitions—Fugitive Emissions | 12/11/14 | 11/17/15, 80 FR 71695 | Replaces WAC 173-400-030(39).
4.02(B) | Particulate Matter Emissions—Fugitive Emissions | 12/11/14 | 11/17/15, 80 FR 71695 | Replaces WAC 173-400-040(4).
4.02(C)(1) | Particulate Matter Emissions—Fugitive Dust | 12/11/14 | 11/17/15, 80 FR 71695 | Replaces WAC 173-400-040(9)(a).
4.02(C)(3) | Particulate Matter Emissions—Fugitive Dust | 12/11/14 | 11/17/15, 80 FR 71695 | Replaces WAC 173-400-040(9)(b).
Washington Department of Ecology Regulations
Washington Administrative Code, Chapter 173-400—General Regulations for Air Pollution Sources
173-400-030 | Definitions | 12/29/12 | 11/17/15, 80 FR 71695 | Except: 173-400-030(38); 173-400-030(39); 173-400-030(91).
173-400-036 | Relocation of Portable Sources | 12/29/12 | 11/17/15, 80 FR 71695
173-400-040 | General Standards for Maximum Emissions | 4/1/11 | 11/17/15, 80 FR 71695 | Except: 173-400-040(2)(c); 173-400-040(2)(d); 173-400-040(3); 173-400-040(4); 173-400-040(5); 173-400-040(7), second paragraph; 173-400-040(9)(a); 173-400-040(9)(b).
173-400-050 | Emission Standards for Combustion and Incineration Units | 12/29/12 | 11/17/15, 80 FR 71695 | Except: 173-400-050(2); 173-400-050(4); 173-400-050(5).
173-400-060 | Emission Standards for General Process Units | 2/10/05 | 11/17/15, 80 FR 71695
173-400-070 | Emission Standards for Certain Source Categories | 12/29/12 | 11/17/15, 80 FR 71695 | Except: 173-400-070(7); 173-400-070(8).
173-400-081 | Startup and Shutdown | 4/1/11 | 11/17/15, 80 FR 71695
173-400-091 | Voluntary Limits on Emissions | 4/1/11 | 11/17/15, 80 FR 71695
173-400-105 | Records, Monitoring and Reporting | 12/29/12 | 11/17/15, 80 FR 71695
173-400-107 | Excess Emissions | 9/20/93 | 6/2/95, 60 FR 28726
173-400-110 | New Source Review (NSR) for Sources and Portable Sources | 12/29/12 | 11/17/15, 80 FR 71695 | Except: 173-400-110(1)(c)(ii)(C); 173-400-110(1)(e); 173-400-110(2)(d); —The part of WAC 173-400-110(4)(b)(vi) that says, “not for use with materials containing toxic air pollutants, as listed in chapter 173-460 WAC,”; —The part of 400-110(4)(e)(iii) that says, “where toxic air pollutants as defined in chapter 173-460 WAC are not emitted”; The part of 400-110(4)(e)(f)(i) that says, “that are not toxic air pollutants listed in chapter 173-460 WAC”; —The part of 400-110(4)(h)(xviii) that says, “, to the extent that toxic air pollutant gases as defined in chapter 173-460 WAC are not emitted”; —The part of 400-110(4)(h)(xxxiii) that says, “where no toxic air pollutants as listed under chapter 173-460 WAC are emitted”; —The part of 400-110(4)(h)(xxxiv) that says, “, or ≤1% (by weight) toxic air pollutants as listed in chapter 173-460 WAC”; The part of 400-110(4)(h)(xxxv) that says, “or ≤1% (by weight) toxic air pollutants”; —The part of 400-110(4)(h)(xxxvi) that says, “or ≤1% (by weight) toxic air pollutants as listed in chapter 173-460 WAC”; 400-110(4)(h)(xl), second sentence; —The last row of the table in 173-400-110(5)(b) regarding exemption levels for Toxic Air Pollutants.
173-400-111 | Processing Notice of Construction Applications for Sources, Stationary Sources and Portable Sources | 12/29/12 | 11/17/15, 80 FR 71695 | Except: 173-400-111(3)(h); —The part of 173-400-111(8)(a)(v) that says, “and 173-460-040,”; 173-400-111(9).
173-400-112 | Requirements for New Sources in Nonattainment Areas—Review for Compliance with Regulations | 12/29/12 | 11/17/15, 80 FR 71695 | Except: 173-400-112(8).
173-400-113 | New Sources in Attainment or Unclassifiable Areas—Review for Compliance with Regulations | 12/29/12 | 11/17/15, 80 FR 71695 | Except: 173-400-113(3), second sentence.
173-400-117 | Special Protection Requirements for Federal Class I Areas | 12/29/12 | 11/17/15, 80 FR 71695 | Except facilities subject to the applicability provisions of WAC 173-400-700.
173-400-118 | Designation of Class I, II, and III Areas | 12/29/12 | 11/17/15, 80 FR 71695
173-400-131 | Issuance of Emission Reduction Credits | 4/1/11 | 11/17/15, 80 FR 71695
173-400-136 | Use of Emission Reduction Credits (ERC) | 12/29/12 | 11/17/15, 80 FR 71695
173-400-151 | Retrofit Requirements for Visibility Protection | 2/10/05 | 11/17/15, 80 FR 71695
173-400-161 | Compliance Schedules | 3/22/91 | 6/2/95, 60 FR 28726
173-400-171 | Public Notice and Opportunity for Public Comment | 12/29/12 | 11/17/15, 80 FR 71695 | Except: —The part of 173-400-171(3)(b) that says, “or any increase in emissions of a toxic air pollutant above the acceptable source impact level for that toxic air pollutant as regulated under chapter 173-460 WAC”; 173-400-171(12).
173-400-175 | Public Information | 2/10/05 | 11/17/15, 80 FR 71695
173-400-190 | Requirements for Nonattainment Areas | 3/22/91 | 6/2/95, 60 FR 28726
173-400-200 | Creditable Stack Height & Dispersion Techniques | 2/10/05 | 11/17/15, 80 FR 71695
173-400-205 | Adjustment for Atmospheric Conditions | 3/22/91 | 6/2/95, 60 FR 28726
173-400-210 | Emission Requirements of Prior Jurisdictions | 3/22/91 | 6/2/95, 60 FR 28726
173-400-560 | General Order of Approval | 12/29/12 | 11/17/15, 80 FR 71695 | Except: —The part of 173-400-560(1)(f) that says, “173-460 WAC”.
173-400-800 | Major Stationary Source and Major Modification in a Nonattainment Area | 4/1/11 | 11/17/15, 80 FR 71695
173-400-810 | Major Stationary Source and Major Modification Definitions | 12/29/12 | 11/17/15, 80 FR 71695
173-400-820 | Determining if a New Stationary Source or Modification to a Stationary Source is Subject to these Requirements | 12/29/12 | 11/17/15, 80 FR 71695
173-400-830 | Permitting Requirements | 12/29/12 | 11/17/15, 80 FR 71695
173-400-840 | Emission Offset Requirements | 12/29/12 | 11/17/15, 80 FR 71695
173-400-850 | Actual Emissions Plantwide Applicability Limitation (PAL) | 12/29/12 | 11/17/15, 80 FR 71695
173-400-860 | Public Involvement Procedures | 4/1/11 | 11/17/15, 80 FR 71695

Table 5—Additional Regulations Approved for the Northwest Clean Air Agency (NWCAA) Jurisdiction
[Applicable in Island, Skagit and Whatcom counties, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012]
State/local citation | Title/subject | State/local effective date | EPA approval date | Explanations
Northwest Clean Air Agency Regulations
General Provisions
100 | Name of Authority | 9/8/93 | 2/22/95, 60 FR 9778
101 | Short Title | 9/8/93 | 2/22/95, 60 FR 9778
102 | Policy | 9/8/93 | 2/22/95, 60 FR 9778
103 | Duties & Powers | 9/8/93 | 2/22/95, 60 FR 9778
104 | Adoption of State/Federal Laws and Rules | 11/13/94 | 10/24/95, 60 FR 54439 | Except section 104.2.
105 | Separability | 9/8/93 | 2/22/95, 60 FR 9778
106 | Public Records | 9/8/93 | 2/22/95, 60 FR 9778
110 | Investigation and Studies | 9/8/93 | 2/22/95, 60 FR 9778
111 | Interference or Obstruction | 9/8/93 | 2/22/95, 60 FR 9778
112 | False and Misleading Oral Statements | 9/8/93 | 2/22/95, 60 FR 9778
113 | Service of Notice | 9/8/93 | 2/22/95, 60 FR 9778
114 | Confidential Information | 9/8/93 | 2/22/95, 60 FR 9778
120 | Hearings | 9/8/93 | 2/22/95, 60 FR 9778
121 | Orders | 9/8/93 | 2/22/95, 60 FR 9778
122 | Appeals from Orders or Violations | 9/8/93 | 2/22/95, 60 FR 9778
123 | Status of Orders on Appeal | 9/8/93 | 2/22/95, 60 FR 9778
124 | Display of Orders | 9/8/93 | 2/22/95, 60 FR 9778
130 | Citations—Notices | 9/8/93 | 2/22/95, 60 FR 9778
131 | Violations—Notices | 9/8/93 | 2/22/95, 60 FR 9778
132 | Criminal Penalty | 11/13/94 | 10/24/95, 60 FR 54439
133 | Civil Penalty | 11/13/94 | 10/24/95, 60 FR 54439
134 | Restraining Orders—Injunction | 9/8/93 | 2/22/95, 60 FR 9778
135 | Additional Enforcement—Compliance Schedules | 9/8/93 | 2/22/95, 60 FR 9778
140 | Reporting by Government Agencies | 9/8/93 | 2/22/95, 60 FR 9778
145 | Motor Vehicle Owner Responsibility | 9/8/93 | 2/22/95, 60 FR 9778
150 | Pollutant Disclosure—Reporting by Air Containment Sources | 9/8/93 | 2/22/95, 60 FR 9778
180 | Sampling and Analytical Methods/References | 9/8/93 | 2/22/95, 60 FR 9778
Definitions
200 | Definitions | 11/13/94 | 10/24/95, 60 FR 54439
Control Procedures
300 | Notice of Construction When Required | 11/13/94 | 10/24/95, 60 FR 54439
301 | Information Required for Notice of Construction & Application for Approval, Public Notice, Public Hearing | 11/13/94 | 10/24/95, 60 FR 54439
302 | Issuance of Approval or Order | 11/13/94 | 10/24/95, 60 FR 54439
303 | Notice of Completion—Notice of Violation | 9/8/93 | 2/22/95, 60 FR 9778
310 | Approval to Operate Required | 9/8/93 | 2/22/95, 60 FR 9778
320 | Registration Required | 9/8/93 | 2/22/95, 60 FR 9778
321 | General Requirements for Registration | 9/8/93 | 2/22/95, 60 FR 9778
322 | Exemptions from Registration | 11/13/94 | 10/24/95, 60 FR 54439
323 | Classes of Registration | 9/8/93 | 2/22/95, 60 FR 9778
324 | Fees | 11/13/94 | 10/24/95, 60 FR 54439 | Except section 324.121.
325 | Transfer | 9/8/93 | 2/22/95, 60 FR 9778
340 | Report of Breakdown and Upset | 11/13/94 | 10/24/95, 60 FR 54439
341 | Schedule Report of Shutdown or Start-Up | 9/8/93 | 2/22/95, 60 FR 9778
342 | Operation and Maintenance | 9/8/93 | 2/22/95, 60 FR 9778
360 | Testing and Sampling | 9/8/93 | 2/22/95, 60 FR 9778
365 | Monitoring | 9/8/93 | 2/22/95, 60 FR 9778
366 | Instrument Calibration | 9/8/93 | 2/22/95, 60 FR 9778
Standards
400 | Ambient Air Standards—Forward | 9/8/93 | 2/22/95, 60 FR 9778
401 | Suspended Particulate Standards (PM-10) | 9/8/93 | 2/22/95, 60 FR 9778
410 | Sulfur Oxide Standards | 9/8/93 | 2/22/95, 60 FR 9778
420 | Carbon Monoxide Standards | 9/8/93 | 2/22/95, 60 FR 9778
422 | Nitrogen Oxide Standards | 9/8/93 | 2/22/95, 60 FR 9778
424 | Ozone Standards | 9/8/93 | 2/22/95, 60 FR 9778
450 | Emission Standards—Forward | 9/8/93 | 2/22/95, 60 FR 9778
451 | Emission of Air Contaminant—Visual Standards | 11/13/94 | 10/24/95, 60 FR 54439
452 | Motor Vehicle Visual Standards | 9/8/93 | 2/22/95, 60 FR 9778 | Except section 452.5.
455 | Emission of Particulate Matter | 9/8/93 | 2/22/95, 60 FR 9778
458 | Incinerators—Wood Waste Burners | 9/8/93 | 2/22/95, 60 FR 9778
460 | Weight/Heat Rate Standard—Emission of Sulfur Compounds | 9/8/93 | 2/22/95, 60 FR 9778
462 | Emission of Sulfur Compounds | 11/13/94 | 10/24/95, 60 FR 54439
466 | Portland Cement Plants | 9/8/93 | 2/22/95, 60 FR 9778
Regulated Activities and Prohibitions
510 | Incinerator Burning | 9/8/93 | 2/22/95, 60 FR 9778
520 | Sulfur Compounds in Fuel | 9/8/93 | 2/22/95, 60 FR 9778
550 | Particulate Matter from Becoming Airborne | 9/8/93 | 2/22/95, 60 FR 9778
560 | Storage of Organic Liquids | 9/8/93 | 2/22/95, 60 FR 9778
580 | Volatile Organic Compound Control (VOC) | 11/13/94 | 10/24/95, 60 FR 54439
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726
173-400-070 | Emission Standards for Certain Source Categories | 3/22/91 | 6/2/95, 60 FR 28726 | Except (7).
173-400-081 | Startup and Shutdown | 9/20/93 | 6/2/95, 60 FR 28726
173-400-091 | Voluntary Limits on Emissions | 9/20/93 | 6/2/95, 60 FR 28726 | 9/20/93 version continues to be approved under the authority of CAA Section 112(l) with respect to Section 112 hazardous air pollutants. See 60 FR 28726 (June 2, 1995).
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726

Table 6—Additional Regulations Approved for the Olympic Region Clean Air Agency (ORCAA) Jurisdiction
[Applicable in Clallam, Grays Harbor, Jefferson, Mason, Pacific, and Thurston counties, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012]
State/local citation | Title/subject | State/local effective date | EPA approval date | Explanations
Olympic Region Clean Air Agency Regulations
Rule 6.2 Outdoor Burning
6.2.3 | No Residential or Land Clearing Burning | 2/4/12 | 10/3/13, 78 FR 61188 | Only as it applies to the cities of Olympia, Lacey, and Tumwater.
6.2.6 | Curtailment | 3/18/11 | 10/3/13, 78 FR 61188 |
6.2.7 | Recreational Burning | 3/18/11 | 10/3/13, 78 FR 61188 |
Rule 8.1 Wood Heating
8.1.1 | Definitions | 5/22/10 | 10/3/13, 78 FR 61188 |
8.1.2(b) and (c) | General Emission Standards | 5/22/10 | 10/3/13, 78 FR 61188 |
8.1.3 | Prohibited Fuel Types | 5/22/10 | 10/3/13, 78 FR 61188 |
8.1.4 | Curtailment | 5/22/10 | 10/3/13, 78 FR 61188 |
8.1.5 | Exceptions | 5/22/10 | 10/3/13, 78 FR 61188 |
8.1.7 | Sale and Installation of Uncertified Woodstoves | 5/22/10 | 10/3/13, 78 FR 61188 |
8.1.8 | Disposal of Uncertified Woodstoves | 5/22/10 | 10/3/13, 78 FR 61188 |
Washington Department of Ecology Regulations
Washington Administrative Code, Chapter 173-400—General Regulations for Air Pollution Sources
173-400-010 | Policy and Purpose | 3/22/91 | 6/2/95, 60 FR 28726 |
173-400-020 | Applicability | 3/22/91 | 6/2/95, 60 FR 28726 |
173-400-030 | Definitions | 3/22/91 | 6/2/95, 60 FR 28726 |
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726 |
173-400-070 | Emission Standards for Certain Source Categories | 3/22/91 | 6/2/95, 60 FR 28726 | Except (7).
173-400-081 | Startup and Shutdown | 9/20/93 | 6/2/95, 60 FR 28726 |
173-400-091 | Voluntary Limits on Emissions | 9/20/93 | 6/2/95, 60 FR 28726 | 9/20/93 version continues to be approved under the authority of CAA Section 112(l) with respect to Section 112 hazardous air pollutants. See 60 FR 28726 (June 2, 1995).
173-400-100 | Registration | 9/20/93 | 6/2/95, 60 FR 28726 |
173-400-105 | Records, Monitoring and Reporting | 9/20/93 | 6/2/95, 60 FR 28726 |
173-400-107 | Excess Emissions | 9/20/93 | 6/2/95, 60 FR 28726 |
173-400-110 | New Source Review (NSR) | 9/20/93 | 6/2/95, 60 FR 28726 |
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726 |
173-400-161 | Compliance Schedules | 3/22/91 | 6/2/95, 60 FR 28726 |
173-400-171 | Public Involvement | 9/20/93 | 6/2/95, 60 FR 28726 |
173-400-190 | Requirements for Nonattainment Areas | 3/22/91 | 6/2/95, 60 FR 28726 |
173-400-200 | Creditable Stack Height & Dispersion Techniques | 3/22/91 | 6/2/95, 60 FR 28726 |
173-400-205 | Adjustment for Atmospheric Conditions | 3/22/91 | 6/2/95, 60 FR 28726 |
173-400-210 | Emission Requirements of Prior Jurisdictions | 3/22/91 | 6/2/95, 60 FR 28726 |

Table 7—Additional Regulations Approved for the Puget Sound Clean Air Agency (PSCAA) Jurisdiction
[Applicable in King, Kitsap, Pierce and Snohomish counties, excluding facilities subject to Energy Facilities Site Evaluation Council (EFSEC) jurisdiction, Indian reservations (excluding non-trust land within the exterior boundaries of the Puyallup Indian Reservation), any other area where the EPA or an Indian tribe has demonstrated that a tribe has jurisdiction, and facilities subject to the applicability sections of WAC 173-400-700, 173-405-012, 173-410-012, and 173-415-012]
State/local citation | Title/subject | State/local effective date | EPA approval date | Explanations
Puget Sound Clean Air Agency Regulations
Regulation I—Article 1: Policy, Short Title, and Definitions
1.01 | Policy | 11/1/99 | 8/31/04, 69 FR 53007 |
1.03 | Name of Agency | 11/1/99 | 8/31/04, 69 FR 53007 |
1.05 | Short Title | 11/1/99 | 8/31/04, 69 FR 53007 |
1.07 | Definitions | 5/19/94 | 6/29/95, 60 FR 33734 |
Regulation I—Article 3: General Provisions
3.04 | Reasonably Available Control Technology | 4/17/99 | 8/31/04, 69 FR 53007 | Except (e).
3.06 | Credible Evidence | 11/14/98 | 8/31/04, 69 FR 53007 |
Regulation I—Article 5: Registration
5.02 | Applicability and Purpose of the Registration Program | 11/1/96 | 8/6/97, 62 FR 42216 |
5.03 | Registration Required | 8/13/99 | 8/31/04, 69 FR 53007 | Except (a)(5).
5.05 | General Reporting Requirements for Registration | 11/1/98 | 8/31/04, 69 FR 53007 |
Regulation I—Article 6: New Source Review
6.03 | Notice of Construction | 11/1/96 | 8/6/97, 62 FR 42216 |
6.04 | Notice of Construction Review Fees | 11/1/97 | 4/21/98, 63 FR 19658 |
6.06 | Public Notice | 5/19/94 | 6/29/95, 60 FR 33734 |
6.07 | Order of Approval—Order to Prevent Construction | 5/19/94 | 6/29/95, 60 FR 33734 |
6.08 | Emission Reduction Credit Banking | 1/1/93 | 8/29/94, 59 FR 44324 |
6.09 | Notice of Completion | 5/19/94 | 6/29/95, 60 FR 33734 |
6.10 | Work Done without an Approval | 11/1/97 | 4/21/98, 63 FR 19658 |
Regulation I—Article 7: Operating Permits
7.09 | General Reporting Requirements for Operating Permits | 11/1/98 | 8/31/04, 69 FR 53007 |
Regulation I—Article 8: Outdoor Burning
8.04 | General Conditions for Outdoor Burning | 1/1/01 | 8/31/04, 69 FR 53007 |
8.05 | Agricultural Burning | 1/1/01 | 8/31/04, 69 FR 53007 |
8.06 | Outdoor Burning Ozone Contingency Measure | 1/23/03 | 8/5/04, 69 FR 47364 |
8.09 | Description of King County No-Burn Area | 1/1/01 | 8/31/04, 69 FR 53007 |
8.10 | Description of Pierce County No-Burn Area | 1/1/01 | 8/31/04, 69 FR 53007 |
8.11 | Description of Snohomish County No-Burn Area | 1/1/01 | 8/31/04, 69 FR 53007 |
8.12 | Description of Kitsap County No-Burn Area | 11/30/02 | 8/31/04, 69 FR 53007 |
Regulation I—Article 9: Emission Standards
9.03 | Emission of Air Contaminant: Visual Standard | 4/17/99 | 8/31/04, 69 FR 53007 | Except (e).
9.04 | Opacity Standards for Equipment with Continuous Opacity Monitoring Systems | 6/1/98 | 8/31/04, 69 FR 53007 | Except (d)(2) & (f).
9.05 | Refuse Burning | 1/13/94 | 6/29/95, 60 FR 33734 |
9.07 | Sulfur Dioxide Emission Standard | 5/19/94 | 6/29/95, 60 FR 33734 |
9.08 | Fuel Oil Standards | 5/19/94 | 6/29/95, 60 FR 33734 |
9.09 | Particulate Matter Emission Standards | 6/1/98 | 8/31/04, 69 FR 53007 |
9.15 | Fugitive Dust Control Measures | 4/17/99 | 8/31/04, 69 FR 53007 |
9.16 | Spray-Coating Operations | 9/1/01 | 8/31/04, 69 FR 53007 |
9.20 | Maintenance of Equipment | 6/9/88 | 8/29/94, 59 FR 44324 |
Regulation I—Article 12: Standards of Performance for Continuous Emission Monitoring Systems
12.01 | Applicability | 6/1/98 | 8/31/04, 69 FR 53007 |
12.03 | Continuous Emission Monitoring Systems | 11/1/04 | 9/17/13, 78 FR 57073 |
Regulation I—Article 13: Solid Fuel Burning Device Standards
13.01 | Policy and Purpose | 12/01/12 | 5/29/13, 78 FR 32131 |
13.02 | Definitions | 12/01/12 | 5/29/13, 78 FR 32131 |
13.03 | Opacity Standards | 12/01/12 | 5/29/13, 78 FR 32131 |
13.04 | Prohibited Fuel Types | 12/01/12 | 5/29/13, 78 FR 32131 |
13.05 | Curtailment | 12/01/12 | 5/29/13, 78 FR 32131 |
13.06 | Emission Performance Standards | 12/01/12 | 5/29/13, 78 FR 32131 |
13.07 | Contingency Plan | 12/01/12 | 5/29/13, 78 FR 32131 |
Regulation II—Article 1: Purpose, Policy, Short Title, and Definitions
1.01 | Purpose | 11/1/99 | 8/31/04, 69 FR 53007 |
1.02 | Policy | 11/1/99 | 8/31/04, 69 FR 53007 |
1.03 | Short Title | 11/1/99 | 8/31/04, 69 FR 53007 |
1.04 | General Definitions | 12/11/80 | 2/28/83, 48 FR 8273 |
1.05 | Special Definitions | 9/1/03 | 9/17/13, 78 FR 57073 |
Regulation II—Article 2: Gasoline Marketing Emission Standards
2.01 | Definitions | 8/13/99 | 8/31/04, 69 FR 53007 |
2.03 | Petroleum Refineries | 7/15/91 | 8/29/94, 59 FR 44324 |
2.05 | Gasoline Loading Terminals | 1/13/94 | 6/29/95, 60 FR 33734 |
2.06 | Bulk Gasoline Plants | 7/15/91 | 8/29/94, 59 FR 44324 |
2.07 | Gasoline Stations | 1/10/00 | 8/31/04, 69 FR 53007 |
2.08 | Gasoline Transport Tanks | 8/13/99 | 8/31/04, 69 FR 53007 |
2.09 | Oxygenated Gasoline Carbon Monoxide Contingency Measure and Fee Schedule | 1/23/03 | 8/5/04, 69 FR 47365 |
2.10 | Gasoline Station Ozone Contingency Measure | 1/23/03 | 8/5/04, 69 FR 47365 |
Regulation II—Article 3: Miscellaneous Volatile Organic Compound Emission Standards
3.01 | Cutback Asphalt Paving | 7/15/91 | 8/29/94, 59 FR 44324 |
3.02 | Volatile Organic Compound Storage Tanks | 8/13/99 | 8/31/04, 69 FR 53007 |
3.03 | Can and Paper Coating Operations | 3/17/94 | 6/29/95, 60 FR 33734 |
3.04 | Motor Vehicle and Mobile Equipment Coating Operations | 9/1/03 | 9/17/13, 78 FR 57073 |
3.05 | Graphic Arts Systems | 1/13/94 | 6/29/95, 60 FR 33734 |
3.08 | Polyester, Vinylester, Gelcoat, and Resin Operations | 1/13/94 | 6/29/95, 60 FR 33734 |
3.09 | Aerospace Component Coating Operations | 1/13/94 | 6/29/95, 60 FR 33734 |
Washington Department of Ecology Regulations
Washington Administrative Code, Chapter 173-400—General Regulations for Air Pollution Sources
173-400-010 | Policy and Purpose | 3/22/91 | 6/2/95, 60 FR 28726 |
173-400-020 | Applicability | 3/22/91 | 6/2/95, 60 FR 28726 |
173-400-030 | Definitions | 3/22/91 | 6/2/95, 60 FR 28726 |
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726 |
173-400-070 | Emission Standards for Certain Source Categories | 3/22/91 | 6/2/95, 60 FR 28726 | Except (7).
173-400-081 | Startup and Shutdown | 9/20/93 | 6/2/95, 60 FR 28726 |
173-400-091 | Voluntary Limits on Emissions | 9/20/93 | 6/2/95, 60 FR 28726 | 9/20/93 version continues to be approved under the authority of CAA Section 112(l) with respect to Section 112 hazardous air pollutants. See 60 FR 28726 (June 2, 1995). issued pursuant to this section.
173-400-100 | Registration | 9/20/93 | 6/2/95, 60 FR 28726 |
173-400-105 | Records, Monitoring and Reporting | 9/20/93 | 6/2/95, 60 FR 28726 |
173-400-107 | Excess Emissions | 9/20/93 | 6/2/95, 60 FR 28726 |
173-400-110 | New Source Review (NSR) | 9/20/93 | 6/2/95, 60 FR 28726 |
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726 |
173-400-161 | Compliance Schedules | 3/22/91 | 6/2/95, 60 FR 28726 |
173-400-171 | Public Involvement | 9/20/93 | 6/2/95, 60 FR 28726 |
173-400-190 | Requirements for Nonattainment Areas | 3/22/91 | 6/2/95, 60 FR 28726 |
173-400-200 | Creditable Stack Height & Dispersion Techniques | 3/22/91 | 6/2/95, 60 FR 28726 |
173-400-205 | Adjustment for Atmospheric Conditions | 3/22/91 | 6/2/95, 60 FR 28726 |
173-400-210 | Emission Requirements of Prior Jurisdictions | 3/22/91 | 6/2/95, 60 FR 28726 |

Table 8—Additional Regulations Approved for the Southwest Clean Air Agency (SWCAA) Jurisdiction
[Applicable in Clark, Cowlitz, Lewis, Skamania and Wahkiakum counties, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012]
State/local citation | Title/subject | State/local effective date | EPA approval date | Explanations
Southwest Clean Air Agency Regulations
General Regulations for Air Pollution Sources
400-010 | Policy and Purpose | 9/21/95 | 2/26/97, 62 FR 8624 |
400-020 | Applicability | 9/21/95 | 2/26/97, 62 FR 8624 |
400-030 | Definitions | 11/21/96 | 5/19/97, 62 FR 27204 | Except 2nd sentence in two subsections (14) & (49), subsection (84).
400-040 | General Standards for Maximum Emissions | 9/21/95 | 2/26/97, 62 FR 8624 | Except (1)(c), and (1)(d), (2), (4), and the exception provision of (6)(a).
400-050 | Emission Standards for Combustion and Incineration Units | 9/21/95 | 2/26/97, 62 FR 8624 | Except the exception provision in (3).
400-052 | Stack Sampling of Major Combustion Sources | 9/21/95 | 2/26/97, 62 FR 8624 |
400-060 | Emission Standards for General Process Units | 9/21/95 | 2/26/97, 62 FR 8624 |
400-070 | Emission Standards for Certain Source Categories | 9/21/95 | 2/26/97, 62 FR 8624 | Except (5).
400-074 | Gasoline Transport Tankers | 9/21/95 | 2/26/97, 62 FR 8624 |
400-081 | Startup and Shutdown | 9/21/95 | 2/26/97, 62 FR 8624 |
400-090 | Voluntary Limits on Emissions | 11/8/93 | 5/3/95, 60 FR 21703 |
400-091 | Voluntary Limits on Emissions | 9/21/95 | 2/26/97, 62 FR 8624 |
400-100 | Registration and Operating Permits | 9/21/95 | 2/26/97, 62 FR 8624 | Except the first sentence of (3)(a)(iv) & (4).
400-101 | Sources Exempt from Registration Requirements | 11/21/96 | 5/19/97, 62 FR 27204 |
400-105 | Records, Monitoring and Reporting | 9/21/95 | 2/26/97, 62 FR 8624 |
400-107 | Excess Emissions | 9/21/95 | 2/26/97, 62 FR 8624 |
400-109 | Notice of Construction Application | 11/21/96 | 5/19/97, 62 FR 27204 | Except subsections (3)(b), (3)(c), (3)(g), (3)(h), (3)(i).
400-110 | New Source Review | 11/21/96 | 5/19/97, 62 FR 27204 |
400-111 | Requirements for Sources in a Maintenance Plan Area | 11/21/96 | 5/19/97, 62 FR 27204 |
400-112 | Requirements for New Sources in Nonattainment Areas | 11/21/96 | 5/19/97, 62 FR 27204 |
400-113 | Requirements for New Sources in Attainment or Nonclassifiable Areas | 11/21/96 | 5/19/97, 62 FR 27204 |
400-114 | Requirements for Replacement or Substantial Alteration for Emission Control Technology at an Existing Stationary Source | 11/21/96 | 5/19/97, 62 FR 27204 |
400-116 | Maintenance of Equipment | 11/21/96 | 5/19/97, 62 FR 27204 |
400-151 | Retrofit Requirements for Visibility Protection | 9/21/95 | 2/26/97, 62 FR 8624 |
400-161 | Compliance Schedules | 9/21/95 | 2/26/97, 62 FR 8624 |
400-171 | Public Involvement | 9/21/95 | 2/26/97, 62 FR 8624 |
400-190 | Requirements for Nonattainment Areas | 11/21/96 | 5/19/97, 62 FR 27204 |
400-200 | Creditable Stack Height & Dispersion Techniques | 9/21/95 | 2/26/97, 62 FR 8624 |
400-205 | Adjustment for Atmospheric Conditions | 9/21/95 | 2/26/97, 62 FR 8624 |
400-210 | Emission Requirements of Prior Jurisdictions | 9/21/95 | 2/26/97, 62 FR 8624 |
400-220 | Requirements for Board Members | 9/21/95 | 2/26/97, 62 FR 8624 |
400-230 | Regulatory Actions & Civil Penalties | 9/21/95 | 2/26/97, 62 FR 8624 |
400-240 | Criminal Penalties | 9/21/95 | 2/26/97, 62 FR 8624 |
400-250 | Appeals | 9/21/95 | 2/26/97, 62 FR 8624 |
400-260 | Conflict of Interest | 9/21/95 | 2/26/97, 62 FR 8624 |
400-270 | Confidentiality of Records & Information | 9/21/95 | 2/26/97, 62 FR 8624 |
400-280 | Powers of Authority | 9/21/95 | 2/26/97, 62 FR 8624 |
Emission Standards and Controls for Sources Emitting Volatile Organic Compounds
490-010 | Policy and Purpose | 11/21/96 | 5/19/97, 62 FR 27204 |
490-020 | Definitions | 11/21/96 | 5/19/97, 62 FR 27204 |
490-025 | General Applicability | 11/21/96 | 5/19/97, 62 FR 27204 |
490-030 | Registration and Reporting | 11/21/96 | 5/19/97, 62 FR 27204 |
490-040 | Requirements | 11/21/96 | 5/19/97, 62 FR 27204 |
490-080 | Exceptions & Alternative Methods | 11/21/96 | 5/19/97, 62 FR 27204 |
490-090 | New Source Review | 11/21/96 | 5/19/97, 62 FR 27204 |
490-200 | Petroleum Refinery Equipment Leaks | 11/21/96 | 5/19/97, 62 FR 27204 |
490-201 | Petroleum Liquid Storage in External Floating Roof Tanks | 11/21/96 | 5/19/97, 62 FR 27204 |
490-202 | Leaks from Gasoline Transport Tanks and Vapor Collection Systems | 11/21/96 | 5/19/97, 62 FR 27204 |
490-203 | Perchloroethylene Dry Cleaning Systems | 11/21/96 | 5/19/97, 62 FR 27204 |
490-204 | Graphic Arts Systems | 11/21/96 | 5/19/97, 62 FR 27204 |
490-205 | Surface Coating of Miscellaneous Metal Parts and Products | 11/21/96 | 5/19/97, 62 FR 27204 |
490-207 | Surface Coating of Flatwood Paneling | 11/21/96 | 5/19/97, 62 FR 27204 |
490-208 | Aerospace Assembly & Component Coating Operations | 11/21/96 | 5/19/97, 62 FR 27204 |
Emissions Standards and Controls for Sources Emitting Gasoline Vapors
491-010 | Policy and Purpose | 11/21/96 | 5/19/97, 62 FR 27204 |
491-015 | Applicability | 11/21/96 | 5/19/97, 62 FR 27204 |
491-020 | Definitions | 11/21/96 | 5/19/97, 62 FR 27204 |
491-030 | Registration | 11/21/96 | 5/19/97, 62 FR 27204 |
491-040 | Gasoline Vapor Control Requirements | 11/21/96 | 5/19/97, 62 FR 27204 |
491-050 | Failures, Certification, Testing & Recordkeeping | 11/21/96 | 5/19/97, 62 FR 27204 |
491-060 | Severability | 11/21/96 | 5/19/97, 62 FR 27204 |
Oxygenated Fuels
492-010 | Policy and Purpose | 11/21/96 | 4/30/97, 62 FR 23363 |
492-020 | Applicability | 11/21/96 | 4/30/97, 62 FR 23363 |
492-030 | Definitions | 11/21/96 | 4/30/97, 62 FR 23363 |
492-040 | Compliance Requirements | 11/21/96 | 4/30/97, 62 FR 23363 |
492-050 | Registration Requirements | 11/21/96 | 4/30/97, 62 FR 23363 |
492-060 | Labeling Requirements | 11/21/96 | 4/30/97, 62 FR 23363 |
492-070 | Control Area and Control Period | 11/21/96 | 4/30/97, 62 FR 23363 |
492-080 | Enforcement and Compliance | 11/21/96 | 4/30/97, 62 FR 23363 |
492-090 | Unplanned Conditions | 11/21/96 | 4/30/97, 62 FR 23363 |
492-100 | Severability | 11/21/96 | 4/30/97, 62 FR 23363 |
VOC Area Source Rules
493-100 | Consumer Products (Reserved) | 05/26/96 | 5/19/97, 62 FR 27204 |
493-200-010 | Applicability | 05/26/96 | 5/19/97, 62 FR 27204 |
493-200-020 | Definitions | 05/26/96 | 5/19/97, 62 FR 27204 |
493-200-030 | Spray Paint Standards & Exemptions | 05/26/96 | 5/19/97, 62 FR 27204 |
493-200-040 | Requirements for Manufacture, Sale and Use of Spray Paint | 05/26/96 | 5/19/97, 62 FR 27204 |
493-200-050 | Recordkeeping & Reporting Requirements | 05/26/96 | 5/19/97, 62 FR 27204 |
493-200-060 | Inspection and Testing Requirements | 05/26/96 | 5/19/97, 62 FR 27204 |
493-300-010 | Applicability | 05/26/96 | 5/19/97, 62 FR 27204 |
493-300-020 | Definitions | 05/26/96 | 5/19/97, 62 FR 27204 |
493-300-030 | Standards | 05/26/96 | 5/19/97, 62 FR 27204 |
493-300-040 | Requirements for Manufacture, Sale and Use of Architectural Coatings | 05/26/96 | 5/19/97, 62 FR 27204 |
493-300-050 | Recordkeeping & Reporting Requirements | 05/26/96 | 5/19/97, 62 FR 27204 |
493-300-060 | Inspection and Testing Requirements | 05/26/96 | 5/19/97, 62 FR 27204 |
493-400-010 | Applicability | 05/26/96 | 5/19/97, 62 FR 27204 |
493-400-020 | Definitions | 05/26/96 | 5/19/97, 62 FR 27204 |
493-400-030 | Coating Standards & Exemptions | 05/26/96 | 5/19/97, 62 FR 27204 |
493-400-040 | Requirements for Manufacture & Sale of Coating | 05/26/96 | 5/19/97, 62 FR 27204 |
493-400-050 | Requirements for Motor Vehicle Refinishing in Vancouver AQMA | 05/26/96 | 5/19/97, 62 FR 27204 |
493-400-060 | Recordkeeping and Reporting Requirements | 05/26/96 | 5/19/97, 62 FR 27204 |
493-400-070 | Inspection & Testing Requirements | 05/26/96 | 5/19/97, 62 FR 27204 |
493-500-010 | Applicability | 05/26/96 | 5/19/97, 62 FR 27204 |
493-500-020 | Compliance Extensions | 05/26/96 | 5/19/97, 62 FR 27204 |
493-500-030 | Exemption from Disclosure to the Public | 05/26/96 | 5/19/97, 62 FR 27204 |
493-500-040 | Future Review | 05/26/96 | 5/19/97, 62 FR 27204 |
Washington Department of Ecology Regulations
Washington Administrative Code, Chapter 173-400—General Regulations for Air Pollution Sources
173-400-010 | Policy and Purpose | 03/22/91 | 6/2/95, 60 FR 28726 |
173-400-020 | Applicability | 03/22/91 | 6/2/95, 60 FR 28726 |
173-400-030 | Definitions | 03/22/91 | 6/2/95, 60 FR 28726 |
173-400-040 | General Standards for Maximum Emissions | 03/22/91 | 6/2/95, 60 FR 28726 | Except (1)(c), and (1)(d), (2), (4), and the 2nd paragraph of (6).
173-400-050 | Emission Standards for Combustion and Incineration Units | 03/22/91 | 6/2/95, 60 FR 28726 | Except the exception provision in (3).
173-400-060 | Emission Standards for General Process Units | 03/22/91 | 6/2/95, 60 FR 28726 |
173-400-070 | Emission Standards for Certain Source Categories | 03/22/91 | 6/2/95, 60 FR 28726 | Except (7).
173-400-081 | Startup and Shutdown | 09/20/93 | 6/2/95, 60 FR 28726 |
173-400-091 | Voluntary Limits on Emissions | 09/20/93 | 6/2/95, 60 FR 28726 | 9/20/93 version continues to be approved under the authority of CAA Section 112(l) with respect to Section 112 hazardous air pollutants. See 60 FR 28726 (June 2, 1995).
173-400-100 | Registration | 09/20/93 | 6/2/95, 60 FR 28726 |
173-400-105 | Records, Monitoring and Reporting | 09/20/93 | 6/2/95, 60 FR 28726 |
173-400-107 | Excess Emissions | 09/20/93 | 6/2/95, 60 FR 28726 |
173-400-110 | New Source Review (NSR) | 09/20/93 | 6/2/95, 60 FR 28726 |
173-400-112 | Requirements for New Sources in Nonattainment Areas | 09/20/93 | 6/2/95, 60 FR 28726 | Except (8).
173-400-113 | Requirements for New Sources in Attainment or Unclassifiable Areas | 09/20/93 | 6/2/95, 60 FR 28726 | Except (5).
173-400-151 | Retrofit Requirements for Visibility Protection | 03/22/91 | 6/2/95, 60 FR 28726 |
173-400-161 | Compliance Schedules | 03/22/91 | 6/2/95, 60 FR 28726 |
173-400-171 | Public Involvement | 09/20/93 | 6/2/95, 60 FR 28726 |
173-400-190 | Requirements for Nonattainment Areas | 03/22/91 | 6/2/95, 60 FR 28726 |
173-400-200 | Creditable Stack Height & Dispersion Techniques | 03/22/91 | 6/2/95, 60 FR 28726 |
173-400-205 | Adjustment for Atmospheric Conditions | 03/22/91 | 6/2/95, 60 FR 28726 |
173-400-210 | Emission Requirements of Prior Jurisdictions | 03/22/91 | 6/2/95, 60 FR 28726 |

Table 9—Additional Regulations Approved for the Spokane Regional Clean Air Agency (SRCAA) Jurisdiction
[Applicable in Spokane County, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012]
State/local citation | Title/subject | State/local effective date | EPA approval date | Explanations
Spokane Regional Clean Air Agency Regulations
Regulation I—Article VI—Emissions Prohibited
6.05 | Particulate Matter & Preventing Particulate Matter from becoming Airborne | 11/12/93 | 1/27/97, 62 FR 3800 |
6.14 | Standards for Control of Particulate Matter on Paved Surfaces | 2/13/99 | 4/12/99, 64 FR 17545 |
6.15 | Standards for Control of Particulate Matter on Unpaved Roads | 2/13/99 | 4/12/99, 64 FR 17545 |
6.16 | Motor Fuel Specifications for Oxygenated Gasoline | 7/6/95 | 9/22/97, 62 FR 49442 * | * correction: 12/31/97, 62 FR 68187.
Regulation I—Article VIII—Solid Fuel Burning Device Standards
8.01 | Purpose | 9/02/14 | 9/28/15, 80 FR 58216 |
8.02 | Applicability | 9/02/14 | 9/28/15, 80 FR 58216 |
8.03 | Definitions | 9/02/14 | 9/28/15, 80 FR 58216 |
8.04 | Emission Performance Standards | 9/02/14 | 9/28/15, 80 FR 58216 | Except the incorporation by reference of WAC 173-433-130, 173-433-170, and 173-433-200.
8.05 | Opacity Standards | 9/02/14 | 9/28/15, 80 FR 58216 |
8.06 | Prohibited Fuel Types | 9/02/14 | 9/28/15, 80 FR 58216 |
8.07 | Curtailment | 9/02/14 | 9/28/15, 80 FR 58216 |
8.08 | Exemptions | 9/02/14 | 9/28/15, 80 FR 58216 |
8.09 | Procedure to Geographically Limit Solid Fuel Burning Devices | 9/02/14 | 9/28/15, 80 FR 58216 |
8.10 | Restrictions on Installation of Solid Fuel Burning Devices | 9/02/14 | 9/28/15, 80 FR 58216 |
Regulation II—Article IV—Emissions Prohibited
4.01 | Particulate Emissions—Grain Loading Restrictions | 4/26/79 | 6/5/80, 45 FR 37821 |
Washington Department of Ecology Regulations
Washington Administrative Code, Chapter 173-400—General Regulations for Air Pollution Sources
173-400-010 | Policy and Purpose | 3/22/91 | 6/2/95, 60 FR 28726 |
173-400-020 | Applicability | 3/22/91 | 6/2/95, 60 FR 28726 |
173-400-030 | Definitions | 3/22/91 | 6/2/95, 60 FR 28726 |
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726 |
173-400-070 | Emission Standards for Certain Source Categories | 3/22/91 | 6/2/95, 60 FR 28726 | Except (7)
173-400-081 | Startup and Shutdown | 9/20/93 | 6/2/95, 60 FR 28726 |
173-400-091 | Voluntary Limits on Emissions | 9/20/93 | 6/2/95, 60 FR 28726 | 9/20/93 version continues to be approved under the authority of CAA Section 112(l) with respect to Section 112 hazardous air pollutants See 60 FR 28726 (June 2, 1995).
173-400-100 | Registration | 9/20/93 | 6/2/95, 60 FR 28726 |
173-400-105 | Records, Monitoring and Reporting | 9/20/93 | 6/2/95, 60 FR 28726 |
173-400-107 | Excess Emissions | 9/20/93 | 6/2/95, 60 FR 28726 |
173-400-110 | New Source Review (NSR) | 9/20/93 | 6/2/95, 60 FR 28726 |
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726 |
173-400-161 | Compliance Schedules | 3/22/91 | 6/2/95, 60 FR 28726 |
173-400-171 | Public Involvement | 9/20/93 | 6/2/95, 60 FR 28726 |
173-400-190 | Requirements for Nonattainment Areas | 3/22/91 | 6/2/95, 60 FR 28726 |
173-400-200 | Creditable Stack Height & Dispersion Techniques | 3/22/91 | 6/2/95, 60 FR 28726 |
173-400-205 | Adjustment for Atmospheric Conditions | 3/22/91 | 6/2/95, 60 FR 28726 |
173-400-210 | Emission Requirements of Prior Jurisdictions | 3/22/91 | 6/2/95, 60 FR 28726 |

Table 10—Additional Regulations Approved for the Yakima Regional Clean Air Agency (YRCAA) Jurisdiction
[Applicable in Yakima County, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012]
State/local citation | Title/subject | State/local effective date | EPA approval date | Explanations
Yakima Regional Clean Air Agency Regulations
Article I—Policy, Short Title and Definitions
1.01 | Policy | 12/15/95 | 2/2/98, 63 FR 5269
1.02 | Short Title | 11/18/93 | 2/2/98, 63 FR 5269
1.03 | Definitions | 12/15/95 | 2/2/98, 63 FR 5269
Article II—General Provisions
2.02 | Control Officer—Powers & Duties | 11/18/93 | 2/2/98, 63 FR 5269
2.03 | Miscellaneous Provisions | 11/18/93 | 2/2/98, 63 FR 5269
2.04 | Confidentiality | 11/18/93 | 2/2/98, 63 FR 5269
2.05 | Advisory Council | 11/18/93 | 2/2/98, 63 FR 5269
Article III—Violations—Orders and Hearings
3.01 | Notice of Violation—Corrective Action Hearings | 11/18/93 | 2/2/98, 63 FR 5269
3.02 | Finality of Order | 11/18/93 | 2/2/98, 63 FR 5269
3.03 | Stay of Order Pending Appeal | 11/18/93 | 2/2/98, 63 FR 5269
3.04 | Voluntary Compliance | 11/18/93 | 2/2/98, 63 FR 5269
Article IV—Registration and Notice of Construction
4.01 | Registration | 12/15/95 | 2/2/98, 63 FR 5269
4.02 | Notice of Construction | 12/15/95 | 2/2/98, 63 FR 5269
4.03 | Exceptions to Article 4 | 11/18/93 | 2/2/98, 63 FR 5269
Article V—Emissions Standards and Preventative Measures
5.01 | Outdoor Burning | 12/15/95 | 2/2/98, 63 FR 5269
5.02 | Regulations Applicable to all Outdoor Burning | 12/15/95 | 2/2/98, 63 FR 5269
5.03 | Regulations Applicable to all Outdoor Burning within Jurisdiction of the Yakima County Clean Air Authority, Local Cities, Towns, Fire Protection Districts and Conservation Districts | 12/15/95 | 2/2/98, 63 FR 5269
5.04 | Regulations Applicable to Permits Issued by the Yakima County Clean Air Authority for all Other Outdoor Burning | 12/15/95 | 2/2/98, 63 FR 5269
5.05 | Additional Restrictions on Outdoor Burning | 12/15/95 | 2/2/98, 63 FR 5269
5.06 | General Standards for Maximum Permissible Emissions | 12/15/95 | 2/2/98, 63 FR 5269
5.07 | Minimum Emission Standards for Combustion and Incineration Sources | 12/15/95 | 2/2/98, 63 FR 5269
5.08 | Minimum Emissions Standards for General Process Sources | 12/15/95 | 2/2/98, 63 FR 5269
5.10 | Sensitive Area Designation | 6/20/94 | 2/2/98, 63 FR 5269
5.11 | Monitoring and Special Reporting | 12/15/95 | 2/2/98, 63 FR 5269
5.12 | Preventive Measures | 11/18/93 | 2/2/98, 63 FR 5269
Article VIII—Penalty and Severability
8.01 | Penalty for Violation | 11/18/93 | 2/2/98, 63 FR 5269
8.02 | Additional/Alternative Penalties | 12/15/95 | 2/2/98, 63 FR 5269
8.03 | Assurance of Discontinuance | 11/18/93 | 2/2/98, 63 FR 5269
8.04 | Restraining Order—Injunctions | 11/18/93 | 2/2/98, 63 FR 5269
8.05 | Severability | 12/15/95 | 2/2/98, 63 FR 5269
Article IX—Woodstoves and Fireplaces
9.01 | Policy | 11/18/93 | 2/2/98, 63 FR 5269
9.02 | Opacity | 11/18/93 | 2/2/98, 63 FR 5269
9.03 | Prohibitive Fuel Types | 11/18/93 | 2/2/98, 63 FR 5269
9.04 | Limitations of Sales of Solid Fuel Burning Devices | 11/18/93 | 2/2/98, 63 FR 5269
9.05 | Prohibition of Visible Emissions During Air Pollution Episodes | 12/15/95 | 2/2/98, 63 FR 5269
Article XII—Adoption of State and Federal Regulations
12.01 | State Regulations | 12/15/95 | 2/2/98, 63 FR 5269
Article XIII—Fee Schedules and Other Charges
13.01 | Registration and Fee Schedule | 1/13/94 | 2/2/98, 63 FR 5269
13.02 | Notice of Construction Fee Schedule | 6/20/94 | 2/2/98, 63 FR 5269
13.03 | Outdoor Burning Permit Fees | 6/20/94 | 2/2/98, 63 FR 5269
Washington Department of Ecology Regulations
Washington Administrative Code, Chapter 173-400—General Regulations for Air Pollution Sources
173-400-010 | Policy and Purpose | 3/22/91 | 6/2/95, 60 FR 28726
173-400-020 | Applicability | 3/22/91 | 6/2/95, 60 FR 28726
173-400-030 | Definitions | 3/22/91 | 6/2/95, 60 FR 28726
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726
173-400-070 | Emission Standards for Certain Source Categories | 3/22/91 | 6/2/95, 60 FR 28726 | Except (7).
173-400-081 | Startup and Shutdown | 9/20/93 | 6/2/95, 60 FR 28726
173-400-091 | Voluntary Limits on Emissions | 9/20/93 | 6/2/95, 60 FR 28726 | 9/20/93 version continues to be approved under the authority of CAA Section 112(l) with respect to Section 112 hazardous air pollutants. See 60 FR 28726 (June 2, 1995).
173-400-100 | Registration | 9/20/93 | 6/2/95, 60 FR 28726
173-400-105 | Records, Monitoring and Reporting | 9/20/93 | 6/2/95, 60 FR 28726
173-400-107 | Excess Emissions | 9/20/93 | 6/2/95, 60 FR 28726
173-400-110 | New Source Review (NSR) | 9/20/93 | 6/2/95, 60 FR 28726
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726
173-400-161 | Compliance Schedules | 3/22/91 | 6/2/95, 60 FR 28726
173-400-171 | Public Involvement | 9/20/93 | 6/2/95, 60 FR 28726
173-400-190 | Requirements for Nonattainment Areas | 3/22/91 | 6/2/95, 60 FR 28726
173-400-200 | Creditable Stack Height & Dispersion Techniques | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726

(d) EPA-Approved State Source-Specific Requirements.

EPA-Approved State of Washington Source-Specific Requirements ¹
Name of source | Order/permit No. | State effective date | EPA approval date | Explanations
IBP (now known as Tyson Foods, Inc.) | 02AQER-5074 | 12/6/02 | 5/2/05, 70 FR 22597 | Except finding number 4 (T-BACT) & 3.3 of approval condition #3 (Emission Limits & Test Methods).
Boise White Paper LLC Permit | 000369-7 | 12/1/04 | 5/2/05, 70 FR 22597 | Following condition only: 1.Q.1 of item Q.
Boise Cascade, Wallula Mill | 1614-AQ04 | 9/15/04 | 5/2/05, 70 FR 22597 | Following conditions only: No. 1 (Approval Conditions) & Appendix A.
Fugitive Dust Control Plan for Simplot Feeders Limited Partnership |  | 12/1/03 | 5/2/05, 70 FR 22597
Emission Limits for Significant Stack Sources | various orders | various dates | 10/26/95, 60 FR 54812
Honam, Inc., Ideal Division (now known as LaFarge North America, Inc.) | #5183 | 2/9/94 | 8/31/04, 69 FR 53007
Saint Gobain Containers LLC | #8244 | 9/9/99 | 8/31/04, 69 FR 53007
Kaiser Order—Alternate Opacity Limit | 91-01 | 12/12/91 | 1/27/97, 62 FR 3800
Kaiser Order—Limiting Potential-to-Emit | 96-03 | 10/4/00 | 7/1/05, 70 FR 38029
Kaiser Order—Limiting Potential-to-Emit | 96-04 | 4/24/96 | 1/27/97, 62 FR 3800
Kaiser Order—Limiting Potential-to-Emit | 96-05 | 10/4/00 | 7/1/05, 70 FR 38029
Kaiser Order—Limiting Potential-to-Emit | 96-06 | 10/19/00 | 7/1/05, 70 FR 38029
Kaiser Order | DE 01 AQIS-3285 | 10/24/01 | 5/12/05, 70 FR 24991
Kaiser Order Amendment #1 | DE 01 AQIS-3285 | 4/9/03 | 5/12/05, 70 FR 24991
RACT Limits for Centralia Power Plant | #97-2057R1 | 2/26/98 | 6/11/03, 68 FR 34821
TransAlta Centralia BART | #6426 | 12/13/11 | 12/6/12, 77 FR 72742 | Except the undesignated introductory text, the section titled “Findings,” and the undesignated text following condition 13.
BP Cherry Point Refinery | Administrative Order No. 7836, Revision 2 | 5/13/15 | 2/16/16, 81 FR 7710 | The following conditions: 1.1, 1.1.1, 1.2, 1.2.1, 1.2.2, 2.1, 2.1.1, 2.1.2, 2.1.3, 2.1.4, 2.1.5, 2.2, 2.2.1, 2.2.2, 2.3, 2.3.1, 2.3.2, 2.4, 2.4.1, 2.4.2, 2.4.2.1, 2.5, 2.5.1, 2.5.1.1, 2.5.1.2, 2.5.2, 2.5.3, 2.5.4, 2.6, 2.6.1, 2.6.2, 2.6.3, 2.7, 2.7.1, 2.7.2, 2.7.3, 2.7.4, 2.8, 2.8.1, 2.8.2, 2.8.3, 2.8.4, 2.8.5, 2.8.6, 3, 3.1, 3.1.1, 3.1.2, 3.2, 3.2.1, 3.2.2, 3.2.3, 3.2.4, 4, 4.1, 4.1.1, 4.1.1.1, 4.1.1.2, 4.1.1.3, 4.1.1.4, 5, 5.1, 5.2, 6, 6.1, 6.2, 6.3, 7, 9.
Alcoa Intalco Works | Administrative Order No. 7837, Revision 1 | 11/15/10 | 6/11/14, 79 FR 33438 | The following conditions: 1, 2, 2.1, 3, 4, 4.1, Attachment A conditions: A1, A2, A3, A4, A5, A6, A7, A8, A9, A10, A11, A12, A13, A14.
Tesoro Refining and Marketing Company | Administrative Order 7838 | 7/7/10 | 6/11/14, 79 FR 33438 | The following conditions: 1, 1.1, 1.1.1, 1.1.2, 1.2, 1.3, 1.4, 1.5, 1.5.1, 1.5.1.1, 1.5.1.2, 1.5.1.3, 1.5.2, 1.5.3, 1.5.4, 1.5.5, 1.5.6, 2, 2.1, 2.1.1, 2.1.1.1, 2.1.2, 2.1.3, 2.2, 2.2.1, 3, 3.1, 3.1.1, 3.1.2, 3.1.2.1, 3.1.2.2, 3.1.2.3, 3.2, 3.2.1, 3.2.1.1, 3.2.1.2, 3.2.1.3, 3.2.1.4, 3.2.1.4.1, 3.2.1.4.2, 3.2.1.4.3, 3.2.1.4.4, 3.2.1.4.5, 3.3, 3.3.1, 3.4, 3.4.1, 3.4.2, 4, 4.1, 5, 5.1, 6, 6.1, 6.1.1, 6.1.2, 6.1.3, 6.1.4, 7, 7.1, 7.1.1, 7.1.2, 7.1.3, 7.1.4, 7.1.5, 7.2, 7.2.1, 7.2.2, 7.2.3, 7.2.4, 8, 8.1, 8.1.1, 8.1.2, 8.2, 8.2.1, 8.2.2, 8.2.3, 8.3, 8.3.1, 8.3.2, 9, 9.1, 9.1.1, 9.1.2, 9.2, 9.2.1, 9.3, 9.3.1, 9.3.2, 9.3.3, 9.4, 9.4.1, 9.4.2, 9.4.3, 9.4.5, 9.4.6, 9.5, 10, 11, 12, 13, 13.1, 13.2, 13.3, 13.4, 13.5, 13.6.
Port Townsend Paper Corporation | Administrative Order No. 7839, Revision 1 | 10/20/10 | 6/11/14, 79 FR 33438 | The following Conditions: 1, 1.1, 1.2, 1.3, 2, 2.1, 3, 3.1, 4.
Lafarge North America, Inc. Seattle, Wa | Administrative Revised Order No. 7841 | 7/28/10 | 6/11/14, 79 FR 33438 | The following Conditions: 1, 1.1, 1.2, 2, 2.1, 2.1.1, 2.1.2, 2.2, 2.3, 3, 3.1, 3.1.1, 3.1.2, 3.1.3, 3.2, 3.3, 4, 4.1, 5, 5.1, 5.1.1, 5.1.2, 5.2, 5.3, 6, 6.1, 7, 7.1, 7.2, 7.3, 7.4, 7.5, 8, 8.1, 8.2, 8.3, 8.4, 8.5, 9, 10, 11, 12.
Weyerhaeuser Corporation, Longview, Wa | Administrative Order No. 7840 | 7/7/10 | 6/11/14, 79 FR 33438 | The following Conditions: 1, 1.1, 1.1.1, 1.1.2, 1.1.3, 1.2, 1.2.1, 1.2.2, 1.2.3, 1.3, 1.3.1, 1.4, 2, 2.1, 3, 3.1, 4, 4.1.
¹ The EPA does not have the authority to remove these source-specific requirements in the absence of a demonstration that their removal would not interfere with attainment or maintenance of the NAAQS, violate any prevention of significant deterioration increment or result in visibility impairment. Washington Department of Ecology may request removal by submitting such a demonstration to the EPA as a SIP revision.

(e) EPA Approved Nonregulatory Provisions and Quasi-Regulatory Measures.

Table 1—Approved But Not Incorporated by Reference Regulations
State/local citation | Title/subject | State/local effective date | EPA approval date | Explanations
Washington Department of Ecology Regulations
173-400-220 | Requirements for Board Members | 3/22/91 | 6/2/95, 60 FR 28726 |
173-400-230 | Regulatory Actions | 3/20/93 | 6/2/95, 60 FR 28726 |
173-400-240 | Criminal Penalties | 3/22/91 | 6/2/95, 60 FR 28726 |
173-400-250 | Appeals | 9/20/93 | 6/2/95, 60 FR 28726 |
173-400-260 | Conflict of Interest | 3/22/91 | 6/2/95, 60 FR 28726 |
173-433-200 | Regulatory Actions and Penalties | 10/18/90 | 1/15/93, 58 FR 4578 |
Benton Clean Air Agency Regulations
2.01 | Powers and Duties of the Benton Clean Air Agency (BCAA) | 12/11/14 | 11/17/15, 80 FR 71695 |
2.02 | Requirements for Board of Directors Members | 12/11/14 | 11/17/15, 80 FR 71695 | Replaces WAC 173-400-220.
2.03 | Powers and Duties of the Board of Directors | 12/11/14 | 11/17/15, 80 FR 71695 |
2.04 | Powers and Duties of the Control Officer | 12/11/14 | 11/17/15, 80 FR 71695 |
2.05 | Severability | 12/11/14 | 11/17/15, 80 FR 71695 |
2.06 | Confidentiality of Records and Information | 12/11/14 | 11/17/15, 80 FR 71695 |
Olympic Region Clean Air Agency Regulations
8.1.6 | Penalties | 5/22/10 | 10/3/13, 78 FR 61188 |
Spokane Regional Clean Air Agency Regulations
8.11 | Regulatory Actions and Penalties | 09/02/14 | 09/28/15, 80 FR 58216 |

Table 2—Attainment, Maintenance, and Other Plans
Name of SIP provision | Applicable geographic or nonattainment area | State submittal date | EPA approval date | Explanations
Attainment and Maintenance Planning—Carbon Monoxide
Carbon Monoxide Attainment Plan | Yakima | 4/27/79 | 6/5/80, 45 FR 37821 |
Carbon Monoxide Attainment Plan | Puget Sound | 1/22/93 | 1/20/94, 59 FR 2994 |
Carbon Monoxide Attainment Plan | Spokane | 1/22/93 | 1/20/94, 59 FR 2994 |
Carbon Monoxide Attainment Plan | Vancouver | 1/22/93 | 1/20/94, 59 FR 2994 |
Carbon Monoxide Attainment Plan—Contingency Measure | Vancouver | 11/10/93 | 10/31/94, 59 FR 54419 |
Carbon Monoxide Attainment Plan—VMT Supplement | Puget Sound | 1/22/93 | 8/23/95, 60 FR 43710 |
Carbon Monoxide Maintenance Plan | Puget Sound | 2/29/96 | 10/11/96, 61 FR 53323 |
Carbon Monoxide Maintenance Plan | Vancouver | 3/19/96 | 10/21/96, 61 FR 54560 |
Carbon Monoxide Attainment Plan—Revisions | Spokane | 9/14/93 and 4/30/96 | 9/22/97, 62 FR 49442 |
Carbon Monoxide Attainment Plan—Correction | Spokane |  | 12/31/97, 62 FR 68187 |
Carbon Monoxide Maintenance Plan | Yakima | 9/26/01 | 11/01/02, 67 FR 66555 |
Carbon Monoxide Maintenance Plan 10-Year Update | Puget Sound | 12/17/03 | 8/5/04, 69 FR 47365 |
Carbon Monoxide Attainment Plan—Including Kaiser Orders | Spokane | 9/20/01 and 11/22/04 | 5/12/05, 70 FR 24991 |
Carbon Monoxide Maintenance Plan | Spokane | 11/29/04 | 6/29/05, 70 FR 37269 |
Carbon Monoxide Maintenance Plan 10-Year Update | Vancouver | 4/25/07 | 6/27/08, 73 FR 36439 |
Attainment and Maintenance Planning—Lead (Pb)
Lead Attainment Plan | Seattle | 9/27/84 | 1/29/85, 50 FR 3907 |
Attainment and Maintenance Planning—Ozone
Ozone Attainment Plan | Vancouver | 7/16/82 | 12/17/82, 47 FR 56497 |
Ozone Attainment Plan | Seattle-Tacoma | 7/16/82 | 2/28/83, 48 FR 8273 |
Ozone Attainment Plan—VOC RACT | Seattle-Tacoma | 5/14/91 | 7/12/93, 58 FR 37426 |
Ozone Attainment Plan—VOC RACT | Vancouver | 5/14/91 | 7/12/93, 58 FR 37426 |
Ozone Attainment Plan—Emission Statement Program | Seattle-Tacoma | 1/28/93 | 9/12/94, 59 FR 46764 |
Ozone Attainment Plan—Emission Statement Program | Vancouver | 1/28/93 | 9/12/94, 59 FR 46764 |
Ozone Maintenance Plan | Seattle-Tacoma | 3/4/96 | 9/26/96, 21 FR 50438 |
Ozone Maintenance Plan | Vancouver | 6/13/96 | 5/19/97, 62 FR 27204 |
Ozone Maintenance Plan 10-Year Update | Seattle-Tacoma | 12/17/03 | 8/5/04, 69 FR 47365 |
8-Hour Ozone 110(a)(1) Maintenance Plan | Seattle-Tacoma | 2/5/08 | 5/2/14, 79 FR 25010 |
8-Hour Ozone 110(a)(1) Maintenance Plan | Vancouver | 1/17/2007 | 8/11/15, 80 FR 48033 |
Attainment and Maintenance Planning—Particulate Matter (PM10)
Particulate Matter (PM10) Attainment Plan | Kent | 11/15/91 | 7/27/93, 58 FR 40059 |
Particulate Matter (PM10) Attainment Plan | Thurston County | 2/17/89 and 11/15/91 | 7/27/93, 58 FR 40056 |
Particulate Matter (PM10) Attainment Plan | Tacoma | 5/2/95 | 10/25/95, 60 FR 54559 |
Particulate Matter (PM10) Attainment Plan | Seattle | 2/21/95 | 10/26/95, 60 FR 54812 |
Particulate Matter (PM10) Attainment Plan | Spokane | 12/9/94 | 1/27/97, 62 FR 3800 |
Particulate Matter (PM10) Attainment Plan | Wallula | 11/13/91 | 1/27/97, 62 FR 3800 |
Particulate Matter (PM10) Attainment Plan | Yakima | 3/24/89 | 2/2/98, 63 FR 5269 |
Particulate Matter (PM10) Maintenance Plan | Thurston County | 8/16/99 | 10/4/00, 65 FR 59128 |
Particulate Matter (PM10) Maintenance Plan | Kent | 8/23/99 | 3/13/01, 66 FR 14492 |
Particulate Matter (PM10) Maintenance Plan | Seattle | 8/23/99 | 3/13/01, 66 FR 14492 |
Particulate Matter (PM10) Maintenance Plan | Tacoma | 8/23/99 | 3/13/01, 66 FR 14492 |
Particulate Matter (PM10) Maintenance Plan | Yakima | 7/8/04 | 2/8/05, 70 FR 6591 |
Particulate Matter (PM10) Attainment Plan—Revision | Wallula | 11/30/04 | 5/2/05, 70 FR 22597 |
Particulate Matter (PM10) Maintenance Plan | Spokane | 11/30/04 | 7/1/05, 70 FR 38029 |
Particulate Matter (PM10) Maintenance Plan | Wallula | 3/29/05 | 8/26/05, 70 FR 50212 |
Particulate Matter (PM10) 2nd 10-year Limited Maintenance Plan | Thurston County | 7/1/13 | 10/3/13, 78 FR 61188 |
Particulate Matter (PM10) 2nd 10-Year Limited Maintenance Plan | Kent, Seattle, and Tacoma | 11/29/13 | 8/20/14, 79 FR 49244 |
Attainment and Maintenance Planning—Particulate Matter (PM2.5)
Particulate Matter (PM2.5) Clean Data Determination | Tacoma, Pierce County | 05/22/12 | 09/04/12, 77 FR 53772 |
Particulate Matter (PM2.5) 2008 Baseline Emissions Inventory and SIP Strengthening Rules | Tacoma, Pierce County | 11/28/12 | 5/29/13, 78 FR 32131 |
Approval of Motor Vehicle Emission Budgets and Determination of Attainment for the 2006 24-Hour Fine Particulate Standard (PM2.5) | Tacoma, Pierce County | 11/28/12 | 9/19/13, 78 FR 57503 |
Particulate Matter (PM2.5) Maintenance Plan | Tacoma, Pierce County | 11/03/14 | 2/10/15, 80 FR 7347 |
Visibility and Regional Haze Plans
Visibility New Source Review (NSR) for non-attainment areas for Washington | Statewide |  | 6/26/86, 51 FR 23228 |
Washington State Visibility Protection Program | Statewide | 11/5/99 | 6/11/03, 68 FR 34821 |
Regional Haze State Implementation Plan—TransAlta BART | Statewide | 12/29/11 | 12/6/12, 77 FR 72742 |
Regional Haze SIP | Statewide | 12/22/10 | 6/11/14, 79 FR 33438 | The Regional Haze SIP including those provisions relating to BART incorporated by reference in § 52.2470 `Identification of plan' with the exception of the BART provisions that are replaced with a BART FIP in § 52.2498 Visibility protection., § 52.2500 Best available retrofit technology requirements for the Intalco Aluminum Corporation (Intalco Works) primary aluminum plant—Better than BART Alternative., § 52.2501 Best available retrofit technology (BART) requirement for the Tesoro Refining and Marketing Company oil refinery—Better than BART Alternative., § 52.2502 Best available retrofit technology requirements for the Alcoa Inc.—Wenatchee Works primary aluminum smelter.
Regional Haze SIP—Technical Correction | Statewide | 12/22/10 | 11/24/14, 79 FR 69767 |
Regional Haze State Implementation Plan—BP Cherry Point Refinery BART Revision. | Statewide | 5/14/15 | 2/16/16, 81 FR 7710 |
110(a)(2) Infrastructure and Interstate Transport
Interstate Transport for the 1997 8-Hour Ozone and PM2.5 NAAQS | Statewide | 1/17/07 | 1/13/09, 74 FR 1591 |
110(a)(2) Infrastructure Requirements—1997 Ozone Standard | Statewide | 1/24/12 | 5/24/12, 77 FR 30902 |
110(a)(2) Infrastructure Requirements—2008 Lead Standard | Statewide | 4/14/14 | 7/23/14, 79 FR 42685 | This action addresses the following CAA elements: 110(a)(2)(A), (B), (C), (D)(i)(II), (D)(ii), (E), (F), (G), (H), (J), (K), (L), and (M).
110(a)(2) Infrastructure Requirements—2008 Ozone and 2010 Nitrogen Dioxide Standards | Statewide | 9/22/14 | 1/14/15, 80 FR 1849 | This action addresses the following CAA elements: 110(a)(2)(A), (B), (C), (D)(i)(II), (D)(ii), (E), (F), (G), (H), (J), (K), (L), and (M).
110(a)(2) Infrastructure Requirements—1997, 2006, and 2012 Fine Particulate Matter (PM2.5) Standards | Statewide | 9/22/14 | 5/12/15, 80 FR 27102 | This action addresses the following CAA elements: 110(a)(2)(A), (B), (C), (D)(i)(II), (D)(ii), (E), (F), (G), (H), (J), (K), (L), and (M).
Interstate Transport for the 2008 Pb and 2010 NO2 NAAQS | Statewide | 5/11/15 | 7/16/15, 80 FR 42042 | This action addresses CAA 110(a)(2)(D)(i)(I).
Interstate Transport for the 2006 24-hour PM2.5 NAAQS | Statewide | 5/11/15 | 7/30/15, 80 FR 45429 | This action addresses CAA 110(a)(2)(D)(i)(I).
Interstate Transport for the 2008 Ozone NAAQS | Statewide | 5/11/15 | 12/15/15, 80 FR 77580 | This action addresses CAA 110(a)(2)(D)(i)(I).
Other Federally Mandated Plans
Oxygenated Gasoline Program |  | 1/22/93 | 1/20/94, 59 FR 2994 |
Business Assistance Program |  | 11/16/92 | 3/8/95, 60 FR 12685 |
Motor Vehicle Inspection & Maintenance Program |  | 8/21/95 | 9/25/96, 61 FR 50235 |
Supplementary Documents
Air Quality Monitoring, Data Reporting and Surveillance Provisions |  | 4/15/81 |  |
Energy Facilities Site Evaluation Council (EFSEC) Memorandum of Agreement |  | 2/23/82 |  |
Recently Approved Plans

[FR Doc. 2016-07175 Filed 3-30-16; 8:45 am]

BILLING CODE 6560-50-P